DEPARTMENT OF HOUSING AND URBAN DEVELOPMENT

[Docket No. FR-5601-N-06]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Juanita Perry, Department of Housing and Urban Development, 451 Seventh Street SW., Room 7262, Washington, DC 20410; telephone (202) 708-1234; TDD number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD reviewed in 2011 for suitability for use to assist the homeless. The properties were reviewed using information provided to HUD by Federal landholding agencies regarding unutilized and underutilized buildings and real property controlled by such agencies or by GSA regarding its inventory of excess or surplus Federal property.

In accordance with 24 CFR part 581.3(b) landholding agencies were required to notify HUD by December 31, 2011, the current availability status and classification of each property controlled by the Agencies that were published by HUD as suitable and available which remain available for application for use by the homeless.

Pursuant to 24 CFR part 581.8(d) and (e) HUD is required to publish a list of those properties reported by the Agencies and a list of suitable/unavailable properties including the reasons why they are not available.

Where property is described as for “off-site use only” recipients of the property will be required to relocate the building to their own site at their own expense. Homeless assistance providers interested in any such property should send a written expression of interest to HHS, addressed to Theresa Rita, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For more information regarding particular properties identified in this Notice (i.e., acreage, floor plan, existing sanitary facilities, exact street address), providers should contact the appropriate landholding agencies at the following addresses: AIR FORCE: Mr. Robert Moore, Air Force Real Property Agency, 143 Billy Mitchell Blvd., San Antonio, TX 78226, (210) 925-3047; ARMY: Ms. Veronica Rines, Department of the Army, Office of the Assistant Chief of Staff for Installation Management, DAIM-ZS, Room 8536, 2511 Jefferson Davis Hwy., Arlington, VA 22202: (571) 256-8145; COE: Mr. Scott Whiteford, Army Corps of Engineers, Real Estate, CEMP-CR, 441 G Street NW., Washington, DC 20314; (202) 761-5542; GSA: Mr. John E.B. Smith, General Services Administration, Office of Real Property Utilization and Disposal, 1800 F Street NW., Room 7040, Washington, DC 20405; (202) 501-0084; INTERIOR: Mr. Michael Wright, Acquisition & Property Management, Department of the Interior, 1801 Pennsylvania Ave. NW., 4th Floor, Washington, DC 20006: (202) 254-5522; NAVY: Mr. Steve Matteo, Department of the Navy, Asset Management Division, Naval Facilities Engineering Command, Washington Navy Yard, 1330 Patterson Ave. SW., Suite 1000, Washington, DC 20374; (202) 685-9426; VETERANS AFFAIRS: Mr. George L. Szwarcman, Acting Director, Real Property, Department of Veterans Affairs, 811 Vermont Avenue NW., Room 555, Washington, DC 20420; (202) 461-8234; (These are not toll-free numbers).

Dated: February 2, 2012.
Mark R. Johnston,
Deputy Assistant Secretary for Special Needs.

TITLE V PROPERTIES REPORTED IN YEAR 2011 WHICH ARE SUITABLE AND AVAILABLE

Agriculture

Colorado

Building

Residence #2

Property Number: 15201130001

Weld Country Rd.

Nunn CO 80648

Status: Excess

Comments: 1,890 sq. ft.; recent use: residential

Air Force

California

Building

Facility 1

Property Number: 18200830012

OTHB Radar Site

Tulelake CA 91634

Status: Unutilized

Comments: 7920 sq. ft., most recent use—communications

Facility 2

Property Number: 18200830014

OTHB Radar Site

Tulelake CA 91634

Status: Unutilized

Comments: 900 sq. ft., most recent use—veh maint shop

Facilities 3, 4

Property Number: 18200830015

OTHB Radar Site

Tulelake CA 91634

Status: Unutilized

Comments: 4160 sq. ft. each, most recent use—communications

Facility 1

Property Number: 18200830016

OTHB Radar Site

Christmas Valley CA 97641

Status: Unutilized

Comments: 16566 sq. ft., most recent use—communications

Facility 2

Property Number: 18200830017

OTHB Radar Site

Christmas Valley CA 97641

Status: Unutilized

Comments: 900 sq. ft., most recent use—veh maint shop

Air Force

California

Building

Facility 4

Property Number: 18200830018

OTHB Radar Site

Christmas Valley CA 97641

Status: Unutilized

Comments: 14,190 sq. ft., most recent use—communications

Facility 6

Property Number: 18200830019

OTHB Radar Site

Christmas Valley CA 97641

Status: Unutilized

Comments: 14,190 sq. ft., most recent use—transmitter bldg.

Bldg. 5435

Property Number: 18201140041

Davis Ave.

Barksdale CA 71101

Status: Underutilized

Comments: off-site removal only; 3,024 sq. ft.; current use: bank; need repairs

Land

Parcels L1 & L2 Property Number: 18200820034

George AFB

Victorville CA 92394

Status: Excess

Comments: 157 acres/desert, pump-and-treat system, groundwater restrictions, AF access rights, access restrictions, environmental concerns

Air Force

Colorado

Building

Bldg. 1425 and 143

Property Number: 18201140024

Peterson AFB

Colorado Springs CO 80914

Status: Unutilized

Comments: off-site removal only; 1425-64,254 sq. ft.; 143-100 sq. ft.; current use: storage to base exchange; need repairs; possible asbestos

AF Academy

Property Number: 18201140026

8010 Sage Brush Dr.

USAF Academy CO 80840

Status: Unutilized

Comments: 2,670 sq. ft.; current use: unknown; 2007 Nat'l Register of Historic Places; fair conditions; possible asbestos

Hawaii

Building

Bldg. 849

Property Number: 18200330008

Bellows AFS

Bellows AFS HI

Status: Unutilized

Comments: 462 sq. ft., concrete storage facility, off-site use only

Air Force

Maine

Building

Bldgs 1, 2, 3, 4

Property Number: 18200840009

OTH-B Radar Site

Columbia Falls ME

Status: Unutilized

Comments: various sq. ft., most recent use—storage/office

Massachusetts

Land

Land/TRACT #A101

Property Number: 18201130003

McDill Rd.

Bedford MA 07131

Status: Unutilized

Comments: 5.35 acres, recent use: AF trailer court, property limitation: local Bedford Zoning By-Laws (Industrial Park District A-IP)

Missouri

Land

Communications Site

Property Number: 18200710001

County Road 424

Dexter Co: Stoddard MO

Status: Unutilized

Comments: 10.63 acres

Nebraska

Building

10 Bldgs.

Property Number: 18201120014

Temp. Lodging

Offutt NE 68113

Location: 5089, 5090, 5091, 5092, 5093, 5094, 5095, 5097, 5098, 5099

Status: Excess

Comments: off-site removal only, sq. ft. varies btw. each bldg., current-use: temp. lodging, good to fair conditions for all bldgs.

Bldg. 5087

Property Number: 18201140027

Capehart Housing Area

Offut NE 68113

Status: Excess

Comments: 25LF-wide, 14LF-height, 30LF-length; current use: exchange store; good to fair condition

Air Force

New York

Building

Bldg. 240

Property Number: 18200340023

Rome Lab

Rome Co: Oneida NY 13441

Status: Unutilized

Comments: 39108 sq. ft., presence of asbestos, most recent use—Electronic Research Lab

Bldg. 247

Property Number: 18200340024

Rome Lab

Rome Co: Oneida NY 13441

Status: Unutilized

Comments: 13199 sq. ft., presence of asbestos, most recent use—Electronic Research Lab

Bldg. 248

Property Number: 18200340025

Rome Lab

Rome Co: Oneida NY 13441

Status: Unutilized

Comments: 4000 sq. ft., presence of asbestos, most recent use—Electronic Research Lab

Air Force

North Carolina

Land

0.14 acres

Property Number: 18200810001

Pope AFB

Pope AFB NC

Status: Excess

Comments: most recent use—middle marker, easement for entry

South Carolina

Building

256 Housing Units

Property Number: 18200920001

Charleston AFB

South Side Housing

Charleston SC

Status: Excess

Comments: various sq. ft., presence of asbestos/lead paint, off-site use only

Texas

Building

Band Center

Property Number: 18201140038

Lackland

San Antonio TX

Status: Unutilized

Comments: off-site removal only; 15,669 sq. ft.; current use: band center; need repairs

Air Force

Texas

Land

0.13 acres

Property Number: 18200810002

DYAB, Dyess AFB

Tye Co: Taylor TX 79563

Status: Unutilized

Comments: most recent use—middle marker, access limitation

Army

Alabama

Building

Bldgs. 4704 & 4707

Property Number: 21201110019

Andrews Ave Motorpool

Fort Rucker AL 36362

Status: Unutilized

Comments: Off-site removal only, bldg 4704—2600 sq. ft. and bldg. 4707—120 sq. ft., current use: vehicle maint. shop for bldg. 4704 and dispatch—bldg 4707, fair conditions; need repairs

Bldg. 8404

Property Number: 21201140050

Redstone Arsenal

Redstone Arsenal AL 35898

Status: Unutilized

Comments: off-site removal only; 430 sq. ft.; current use: explosive testing; needs extensive repairs; possible asbestos and lead base paint

10 Bldgs.

Property Number: 21201140053

Redstone Arsenal

Redstone Arsenal AL 35898

Location: 1402, 1402A, 1403, 1403A, 1404, 1404A, 1405, 1405A, 1406, 1406A

Status: Unutilized

Comments: off-site removal only; possible asbestos and lead base paint; sq. ft. varies; extensive repairs needed; current use: military housing

Army

Alaska

Building

Bldg. 00001

Property Number: 21200340075

Kiana Natl Guard Armory

Kiana AK 99749

Status: Excess

Comments: 1200 sq. ft., butler bldg., needs repair, off-site use only

Bldg. 00001

Property Number: 21200710051

Holy Cross Armory

High Cross AK 99602

Status: Excess

Comments: 1200 sq. ft. armory, off-site use only

Arizona

Building

Bldg. S-306

Property Number: 21199420346

Yuma Proving Ground

Yuma Co: Yuma/La Paz AZ 85365-9104

Status: Unutilized

Comments: 4103 sq. ft., 2-story, needs major rehab, off-site use only

Bldg. 503, Yuma Proving Ground

Property Number: 21199520073

Yuma Co: Yuma AZ 85365-9104

Status: Underutilized

Comments: 3789 sq. ft., 2-story, major structural changes required to meet floor loading code requirements, presence of asbestos, off-site use only

Army

Arizona

Building

Bldg. 43002

Property Number: 21200440066

Fort Huachuca

Cochise AZ 85613-7010

Status: Excess

Comments: 23,152 sq. ft., presence of asbestos/lead paint, most recent use—dining, off-site use only

Bldg. 90551

Property Number: 21200920001

Fort Huachuca

Cochise AZ 85613

Status: Excess

Comments: 1270 sq. ft., most recent use—office, off-site use only

Arkansas

Building

7 Bldgs.

Property Number: 21201140055

Pine Bluff Arsenal

Pine Bluff AR 71602

Location:

57240, 57210, 57160, 57150, 57120, 5743, 5739

Status: Unutilized

Comments: off-site removal only; sq. ft. varies; current use: lab/test bldg.

Bldg. 57260

Property Number: 21201140057

Pine Bluff Arsenal

Pine Bluff AR 71602

Status: Unutilized

Comments: off-site removal only; 9,474 sq. ft.; current use: CHM EQ/MAT Bldg.

Army

California

Building

Bldgs. 18026, 18028

Property Number: 21200130081

Camp Roberts

Monterey CA 93451-5000

Status: Excess

Comments: 2024 sq. ft., concrete, poor condition, off-site use only

Colorado

Building

Bldg. 00127

Property Number: 21200420179

Pueblo Chemical Depot

Pueblo CO 81006

Status: Unutilized

Comments: 8067 sq. ft., presence of asbestos, most recent use—barracks, off-site use only

Georgia

Building

Bldg. 322

Property Number: 21199720156

Fort Benning

Ft. Benning Co: Muscogee GA 31905

Status: Unutilized

Comments: 9600 sq. ft., needs rehab, most recent use—admin., off-site use only

Bldg. 2593

Property Number: 21199720167

Fort Benning

Ft. Benning Co: Muscogee GA 31905

Status: Unutilized

Comments: 13644 sq. ft., needs rehab, most recent use—parachute shop, off-site use only

Army

Georgia

Building

Bldg. 2595

Property Number: 21199720168

Fort Benning

Ft. Benning Co: Muscogee GA 31905

Status: Unutilized

Comments: 3356 sq. ft., needs rehab, most recent use—chapel, off-site use only

Bldg. 4232

Property Number: 21199830291

Fort Benning

Ft. Benning Co: Muscogee GA 31905

Status: Unutilized

Comments: 3720 sq. ft., needs rehab, most recent use—maint. bay, off-site use only

Bldgs. 5974-5978

Property Number: 21199930135

Fort Benning

Ft. Benning Co: Muscogee GA 31905

Status: Unutilized

Comments: 400 sq. ft., most recent use—storage, off-site use only

Bldg. 5993

Property Number: 21199930136

Fort Benning

Ft. Benning Co: Muscogee GA 31905

Status: Unutilized

Comments: 960 sq. ft., most recent use—storage, off-site use only

Bldg. 4476

Property Number: 21200420034

Fort Benning

Ft. Benning Co: Chattachoochee GA 31905

Status: Excess

Comments: 3148 sq. ft., most recent use—veh. maint. shop, off-site use only

Army

Georgia

Building

Bldg. 9029

Property Number: 21200420050

Fort Benning

Ft. Benning Co: Chattachoochee GA 31905

Status: Excess

Comments: 7356 sq. ft., most recent use—heat plant bldg., off-site use only

Bldg. 00100

Property Number: 21200740052

Hunter Army Airfield

Chatham GA 31409

Status: Excess

Comments: 10893 sq. ft., most recent use—battalion hdqts. off-site use only

Bldg. 00129

Property Number: 21200740053

Hunter Army Airfield

Chatham GA 31409

Status: Excess

Comments: 4815 sq. ft., presence of asbestos, most recent use—religious education facility, off-site use only

Bldg. 00145

Property Number: 21200740054

Hunter Army Airfield

Chatham GA 31409

Status: Excess

Comments: 11590 sq. ft., presence of asbestos, most recent use—post chapel, off-site use only

Bldg. 00811

Property Number: 21200740055

Hunter Army Airfield

Chatham GA 31409

Status: Excess

Comments: 42853 sq. ft., most recent use—co hq bldg, off-site use only

Army

Georgia

Building

Bldg. 00812

Property Number: 21200740056

Hunter Army Airfield

Chatham GA 31409

Status: Excess

Comments: 1080 sq. ft., most recent use—power plant, off-site use only

Bldg. 00850

Property Number: 21200740057

Hunter Army Airfield

Chatham GA 31409

Status: Excess

Comments: 108,287 sq. ft., presence of asbestos, most recent use—aircraft hangar, off-site use only

Bldg. 00860

Property Number: 21200740058

Hunter Army Airfield

Chatham GA 31409

Status: Excess

Comments: 10679 sq. ft., presence of asbestos, most recent use—maint. hangar, off-site use only

Bldg. 00971

Property Number: 21200740062

Fort Stewart

Hinesville GA 31314

Status: Excess

Comments: 4000 sq. ft., most recent use—vehicle maint., off-site use only

Bldg. 01209

Property Number: 21200740064

Fort Stewart

Hinesville GA 31314

Status: Excess

Comments: 4786 sq. ft., presence of asbestos, most recent use—vehicle maint., off-site use only

Army

Georgia

Building

Bldg. 245

Property Number: 21200740178

Fort Benning

Ft. Benning GA 31905

Status: Unutilized

Comments: 1102 sq. ft., most recent use—fld ops, off-site use only

Bldg. 2748

Property Number: 21200740180

Fort Benning

Ft. Benning GA 31905

Status: Unutilized

Comments: 3990 sq. ft., most recent use—office, off-site use only

Bldg. 3866

Property Number: 21200740182

Fort Benning

Ft. Benning GA 31905

Status: Unutilized

Comments: 944 sq. ft., most recent use—office, off-site use only

Bldg. 8682

Property Number: 21200740183

Fort Benning

Ft. Benning GA 31905

Status: Unutilized

Comments: 780 sq. ft., most recent use—admin., off-site use only

Bldg. 10800

Property Number: 21200740184

Fort Benning

Ft. Benning GA 31905

Status: Unutilized

Comments: 16,628 sq. ft., off-site use only

Army

Georgia

Building

Bldgs. 11302, 11303, 11304

Property Number: 21200740185

Fort Benning

Ft. Benning GA 31905

Status: Unutilized

Comments: various sq. ft., most recent use—ACS center, off-site use only

Bldg. 0297

Property Number: 21200810045

Ft. Benning

Chattahoochie GA 31905

Status: Excess

Comments: 4839 sq. ft., most recent use—riding stable, off-site use only

Bldg. 3819

Property Number: 21200810046

Ft. Benning

Chattahoochee GA 31905

Status: Excess

Comments: 4241 sq. ft., most recent use—training, off-site use only

Bldg. 10802

Property Number: 21200810047

Ft. Benning

Chattahoochee GA 31905

Status: Excess

Comments: 3182 sq. ft., most recent use—storage, off-site use only

Bldg. 01021

Property Number: 21200840062

Hunter Army Airfield

Savannah GA 31409

Status: Excess

Comments: 6855 sq. ft., most recent use—admin., presence of asbestos, off-site use only

Army

Georgia

Building

6 Bldgs.

Property Number: 21201110038

Fort Benning

Fort Benning Co: Muscogee GA 31905

Location: Bldgs: 02452, 02680, 02864, 02865, 02866, 02867

Status: Underutilized

Comments: Off-site removal only; sq. ft. varies; current use varies; all bldgs. in poor condition—need repairs

7 Bldgs.

Property Number: 21201110051

Ft. Benning

Ft. Benning GA 31905

Location: 02868, 02867, 02870, 02871, 02872, 02873, 02875

Status: Underutilized

Comments: off-site removal only, multiple bldgs. w/varies sq.ft. current use varies from ea. bldg., bldgs. in poor conditions-—needs repairs

4 Bldgs.

Property Number: 21201140011

Hunter Army Airfield

Savannah GA 31409

Location: 1228, 125, 128, 1158

Status: Excess

Comments: off-site removal only; sq. ft. varies; current use: varies; fair to poor conditions— bldgs. need repairs; possible asbestos

5 Bldgs.

Property Number: 21201140012

Hunter Army Airfield

Savannah GA 31409

Location: 1208, 1209, 1211, 1212, 1221

Status: Excess

Comments: Off-site removal only; sq. ft. varies; current use: varies; fair conditions— bldgs. need repairs; possible asbestos

Army

Georgia

Building

Bldg. 1201

Property Number: 21201140013

685 Horace Emmet Wilson Blvd.

Savannah GA 31409

Status: Excess

Comments: off-site removal only; 8,736 sq. ft.; current use: Administrative office; fair conditions—bldg. need repairs; possible asbestos

Bldgs. 1154 and 1157

Property Number: 21201140014

Hunter Army Airfield

Savannah GA 31409

Status: Excess

Comments: off-site removal only; sq. ft. varies; current use: CO HQ Bldg; fair conditions— bldgs. need repair

Bldgs. 140 and 150

Property Number: 21201140015

Hunter Army Airfield

Savannah GA 31409

Status: Excess

Comments: off-site removal only; Bldg 140 = 4,863 sq. ft.; Bldg. 150 = 6,090 sq. ft.; poor conditions—bldgs. need repairs; current use: BDE HQ Bldg.

Hawaii

Building

P-88

Property Number: 21199030324

Aliamanu Military Reservation

Honolulu Co: Honolulu HI 96818

Location: Approximately 600 feet from Main Gate on Aliamanu Drive

Status: Unutilized

Comments: 45,216 sq. ft. underground tunnel complex, pres. of asbestos, clean-up required of contamination, use of respirator required by those entering property, use limitations

Kansas

Building

10 Bldgs.

Property Number: 21201110009

9081 Vinton School Rd.

Fort Riley Co: Geary KS 66442

Location: 09081, 00179, 09004, 09016, 09074, 09008, 09383, 09384, 09386, 09451

Status: Unutilized

Comments: Off-site removal only; multiple bldgs w/various sq. footage (80-660 sq. ft.), very poor condition, needs major repairs; current use varies

Ft. Riley U.S. Army Reservation

Property Number: 21201110010

9377 6800 N RD

Fort Riley Co: Riley KS 66442

Location: 10 bldgs: 09377, 09302, 09082, 09083, 09084, 09385, 07033, 07034, 07036, 09015

Status: Unutilized

Comments: Off-site removal only; multiple bldgs. w/various sq. footage (610-10,010 sq. ft.), current use varies, office to range operation support, very poor conditions—need major repairs

Army

Kansas

Building

5 Bldgs

Property Number: 21201110016

Fort Riley

Fort Riley Co: Geary KS 66442

Location: Bldgs: 09451, 08369, 07123, 1990, 07816

Status: Unutilized

Comments: Off-site removal only, sq. footage varies w. each bldg; current use varies (gas chamber—storage), some bldgs. need repairs

5 Bldgs

Property Number: 21201110017

Fort Riley

Fort Riley Co: Geary KS 66442

Location: Bldgs: 01781, 07818, 08324, 07739, 8329

Status: Unutilized

Comments: Off-site removal only, sq. ft. varies for each bldg., current use varies (oil storage bldg.—training ctr.), repairs needed for buildings

5 Bldgs.

Property Number: 21201110018

Fort Riley

Fort Riley Co: Geary KS 66442

Location: Bldgs: 01780, 09383, 08322, 08320, 08328

Status: Unutilized

Comments: Off-site removal only, sq. ft. varies, current use varies (training ctr.—dispatch bldg.), poor conditions; need repairs for all

Bldg. 00542

Property Number: 21201120066

542 Huebner Road

Fort Riley USAR

Fort Riley KS

Status: Unutilized

Comments: Off-site removal only, 14,528 sq. ft.; wood; recent use: Army lodging

Army

Kansas

Building

Bldg. 08327

Property Number: 21201120067

8327 Wells St.

Fort Riley USAR

Fort Riley KS

Status: Unutilized

Comments: Off-Site Removal Only, 9,600 sq. ft.; steel; recent use: training aid center

Bldg. 00600

Property Number: 21201120070

600 Caisson Hill Rd.

Ft. Riley USAR

Fort Riley KS

Status: Unutilized

Comments: Off-Site Removal Only, 380,376 sq. ft.; recent use: hospital; off-site removal only

Bldg. 00541

Property Number: 21201120075

541 Huebner Rd.

Fort Riley KS

Status: Unutilized

Comments: Off-Site Removal Only, 18,083 sq. ft.; recent use: Army Lodging; wood; 45 yrs old; off-site removal only

Bldg. 08321

Property Number: 21201120076

8321 Wells St.

Fort Riley KS

Status: Unutilized

Comments: Off-site removal only, 5,060 sq. ft; concrete block; recent use: training aid center

Army

Kansas

Building

Bldg. 00470

Property Number: 21201120077

470 Huebner Rd.

Fort Riley KS

Status: Unutilized

Comments: Off-Site Removal Only, 3,787 sq. ft.; concrete; recent use: lodging

Bldg. 8320

Property Number: 21201120080

8320 Wells St.

Fort Riley KS

Status: Unutilized

Comments: Off-Site Removal Only, 20,240 sq. ft.; concrete bldg.; recent use: training aids center

Bldg. 00540

Property Number: 21201120084

540 Huebner Road

Fort Riley Co: Riley KS

Status: Unutilized

Comments: Off-Site Removal Only, 14,528 sq. ft.; wood structure; recent use: Army lodging; off-site removal only

Bldg. 00471

Property Number: 21201120086

471 Huebner Road

Fort Riley Co: Riley KS

Status: Unutilized

Comments: Off-Site Removal Only, 3,547 sq. ft.; 39 yrs old, concrete; recent use: Army lodging; off-site removal only

Army

Kansas

Building

4 Bldgs.

Property Number: 21201130040

Fort Riley KS 66442

Location: 00471, 00470, 00745, 00615

Status: Unutilized

Comments: off-site removal only; sq ft. vary among properties; recent use: lodging, storage

Bldg. 00600

Property Number: 21201130042

600 Caisson Hill Rd

Fort Riley KS 66442

Status: Unutilized

Comments: off-site removal only; 380,376 sq. ft.; recent use: hospital

Bldgs. 00541 and 08321

Property Number: 21201130044

Ft. Riley

Fort Riley KS

Status: Unutilized

Comments: off-site removal only; sq. ft., vary among properties, recent use: lodging

2 Bldgs.

Property Number: 21201130059

Fort Riley KS 66442

Location: 00540, 00541

Status: Unutilized

Comments: off-site removal only; sq. ft. vary among properties, recent use: lodging

Bldg. 00745

Property Number: 21201130061

Fort Riley KS 66442

Status: Unutilized

Comments: off-site removal only; 99 square feet; recent use: storage

Army

Kansas

Building

Bldg. 00542

Property Number: 21201130063

Fort Riley KS 66442

Status: Unutilized

Comments: off-site removal only; 14,528 sq. ft.; recent use: lodging

2 Bldgs

Property Number: 21201130065

Fort Riley KS 66442

Location: 00470, 08327

Status: Unutilized

Comments: off-site removal only; sq. ft. vary among properties, recent use: lodging, and training center

Kentucky

Building

Fort Knox

Property Number: 21201110011

Eisenhower Avenue

Fort Knox KY 40121

Location: Bldgs: 06559, 06571, 06575, 06583, 06584, 06585, 06586

Status: Unutilized

Comments: Off-site removal only; multiple bldgs. w/various sq. footage (2,578-8,440 sq. ft), current use varies (classroom-dental clinic), lead base paint, asbestos & mold identified

Fort Knox, 10 Bldgs.

Property Number: 21201110012

Bacher Street

2nd Dragoons Rd & Abel St

Fort Knox KY 40121

Location: Bldgs: 06547, 06548, 06549, 06550, 06551, 06552, 06553, 06554, 06557, 06558

Status: Unutilized

Comments: off-site removal only, multiple bldgs. w/various sq. footage (8,527-41,631 sq. ft.), lead base paint, asbestos & mold identified in all bldgs. Current use varies

Army

Kentucky

Building

Fort Knox, 10 Bldgs

Property Number: 21201110015

Eisenhower Ave

Fort Knox KY 40121

Location: Bldgs: 06535, 06536, 06537, 06539, 06540, 06541, 06542, 06544, 06545, 06546

Status: Unutilized

Comments: Off-site removal only, multiple bldgs. w/various sq. ft. (2,510-78,436 sq. ft.), lead base paint, asbestos & mold have been identified in all bldgs. Current use varies

11 Bldgs.

Property Number: 21201140002

Ft. Knox

Ft. Knox KY 40121

Location: 02422, 02423, 02424, 02425, 02956, 02960, 00173, 02197, 02200, 00097, 00098

Status: Unutilized

Comments: off-site removal only; possible lead based paint, asbestos, and mold in all bldgs.; sq. ft. varies; current use: office

5 Bldgs.

Property Number: 21201140003

Ft. Knox

Ft. Knox KY 40121

Location: 02317, 02323, 02324, 02349, 02421

Status: Unutilized

Comments: off-site removal only; possible lead base paint, asbestos, and mold; sq. ft. varies; current use: office

10 Bldgs.

Property Number: 21201140016

Ft. Knox

Ft. Knox KY 40121

Location: 120, 161, 166, 171, 101, 114, 115, 116, 117, 1196

Status: Unutilized

Comments: off-site removal only; sq. ft. varies; current use: office space to storage; possible asbestos and mold

Army

Kentucky

Building

18 Bldgs.

Property Number: 21201140032

Ft. Knox

Ft. Knox KY 40121

Location: 51, 52, 70, 73, 74, 76, 2961, 2963, 2964, 2969, 2970, 2971, 2972, 2973, 2974, 2975, 2979, 2316

Status: Unutilized

Comments: off-site removal only; possible asbestos, mold, and lead base paint; sq. ft. varies; current use: office

12 Bldgs.

Property Number: 21201140033

Ft. Knox

Ft. Knox KY 40121

Location: 77, 78, 80, 81, 85, 86, 92, 94, 96, 9248, 2995, 2996

Status: Unutilized

Comments: off-site removal only; possible mold, asbestos, and lead base paint; sq. ft. varies; current use: office to storage

Bldg. 2980

Property Number: 21201140078

Ft. Knox

Ft. Knox KY 40121

Status: Unutilized

Comments: off-site removal only; 6,900 sq. ft.; current use: office; possible asbestos and mold

Bldg. 1197

Property Number: 21201140079

Ft. Knox

Ft. Knox KY 40121

Status: Unutilized

Comments: off-site removal only; 2,969 sq. ft; current use: office; possible lead base paint, asbestos and mold

Army

Louisiana

Building

Bldg. 8423, Fort Polk

Property Number: 21199640528

Ft. Polk Co: Vernon Parish LA 71459

Status: Underutilized

Comments: 4172 sq. ft., most recent use—barracks

Bldg. T7125

Property Number: 21200540088

Fort Polk

Ft. Polk LA 71459

Status: Unutilized

Comments: 1875 sq. ft., off-site use only

Bldgs. T7163, T8043

Property Number: 21200540089

Fort Polk

Ft. Polk LA 71459

Status: Unutilized

Comments: 4073/1923 sq. ft., off-site use only

Army

Maryland

Building

Bldg. 0459B

Property Number: 21200120106

Aberdeen Proving Ground

Aberdeen Co: Harford MD 21005-5001

Status: Unutilized

Comments: 225 sq. ft., poor condition, most recent use—equipment bldg., off-site use only

Bldg. 00785

Property Number: 21200120107

Aberdeen Proving Ground

Aberdeen Co: Harford MD 21005-5001

Status: Unutilized

Comments: 160 sq. ft., poor condition, most recent use—shelter, off-site use only

Bldg. E5239

Property Number: 21200120113

Aberdeen Proving Ground

Aberdeen Co: Harford MD 21005-5001

Status: Unutilized

Comments: 230 sq. ft., most recent use—storage, off-site use only

Bldg. E5317

Property Number: 21200120114

Aberdeen Proving Ground

Aberdeen Co: Harford MD 21005-5001

Status: Unutilized

Comments: 3158 sq. ft., presence of asbestos/lead paint, most recent use—lab, off-site use only

Bldg. E5637

Property Number: 21200120115

Aberdeen Proving Ground

Aberdeen Co: Harford MD 21005-5001

Status: Unutilized

Comments: 312 sq. ft., presence of asbestos/lead paint, most recent use—lab, off-site use only

Bldg. 219

Property Number: 21200140078

Ft. George G. Meade

Ft. Meade Co: Anne Arundel MD 20755

Status: Unutilized

Comments: 8142 sq. ft., presence of asbestos/lead paint, most recent use—admin., off-site use only

Army

Maryland

Building

Bldg. 294

Property Number: 21200140081

Ft. George G. Meade

Ft. Meade Co: Anne Arundel MD 20755

Status: Unutilized

Comments: 3148 sq. ft., presence of asbestos/lead paint, most recent use—entomology facility, offsite use only

Bldg. 1007

Property Number: 21200140085

Ft. George G. Meade

Ft. Meade Co: Anne Arundel MD 20755

Status: Unutilized

Comments: 3108 sq. ft., presence of asbestos/lead paint, most recent use—storage, off-site use only

Bldg. 2214

Property Number: 21200230054

Fort George G. Meade

Fort Meade Co: Anne Arundel MD 20755

Status: Unutilized

Comments: 7740 sq. ft., needs rehab, possible asbestos/lead paint, most recent use—storage, offsite use only

Bldg. 00375

Property Number: 21200320107

Aberdeen Proving Grounds

Aberdeen Co: Harford MD 21005

Status: Unutilized

Comments: 64 sq. ft., most recent use—storage, off-site use only

Army

Maryland

Building

Bldg. 0385A

Property Number: 21200320110

Aberdeen Proving Grounds

Aberdeen Co: Harford MD 21005

Status: Unutilized

Comments: 944 sq. ft., off-site use only

Bldg. 00523

Property Number: 21200320113

Aberdeen Proving Grounds

Aberdeen Co: Harford MD 21005

Status: Unutilized

Comments: 3897 sq. ft., most recent use—paint shop, off-site use only

Bldg. 0700B

Property Number: 21200320121

Aberdeen Proving Grounds

Aberdeen Co: Harford MD 21005

Status: Unutilized

Comments: 505 sq. ft., off-site use only

Bldg. 01113

Property Number: 21200320128

Aberdeen Proving Grounds

Aberdeen Co: Harford MD 21005

Status: Unutilized

Comments: 1012 sq. ft., off-site use only

Bldgs. 01124, 01132

Property Number: 21200320129

Aberdeen Proving Grounds

Aberdeen Co: Harford MD 21005

Status: Unutilized

Comments: 740/2448 sq. ft., most recent use—lab, off-site use only

Army

Maryland

Building

Bldg. 03558

Property Number: 21200320133

Aberdeen Proving Grounds

Aberdeen Co: Harford MD 21005

Status: Unutilized

Comments: 18,000 sq. ft., most recent use—storage, off-site use only

Bldg. 05262

Property Number: 21200320136

Aberdeen Proving Grounds

Aberdeen Co: Harford MD 21005

Status: Unutilized

Comments: 864 sq. ft., most recent use—storage, off-site use only

Bldg. 05608

Property Number: 21200320137

Aberdeen Proving Grounds

Aberdeen Co: Harford MD 21005

Status: Unutilized

Comments: 1100 sq. ft., most recent use—maint bldg., off-site use only

Bldg. E5645

Property Number: 21200320150

Aberdeen Proving Grounds

Aberdeen Co: Harford MD 21005

Status: Unutilized

Comments: 548 sq. ft., most recent use—storage, off-site use only

Bldg. 00435

Property Number: 21200330111

Aberdeen Proving Grounds

Aberdeen Co: Harford MD 21005

Status: Unutilized

Comments: 1191 sq. ft., needs rehab, most recent use—storage, off-site use only

Army

Maryland

Building

Bldg. 0449A

Property Number: 21200330112

Aberdeen Proving Grounds

Aberdeen Co: Harford MD 21005

Status: Unutilized

Comments: 143 sq. ft., needs rehab, most recent use—substation switch bldg., off-site use only

Bldg. 0460

Property Number: 21200330114

Aberdeen Proving Grounds

Aberdeen Co: Harford MD 21005

Status: Unutilized

Comments: 1800 sq. ft., needs rehab, most recent use—electrical EQ bldg., off-site use only

Bldg. 00914

Property Number: 21200330118

Aberdeen Proving Grounds

Aberdeen Co: Harford MD 21005

Status: Unutilized

Comments: needs rehab, most recent use—safety shelter, off-site use only

Bldg. 00915

Property Number: 21200330119

Aberdeen Proving Grounds

Aberdeen Co: Harford MD 21005

Status: Unutilized

Comments: 247 sq. ft., needs rehab, most recent use—storage, off-site use only

Bldg. 01189

Property Number: 21200330126

Aberdeen Proving Grounds

Aberdeen Co: Harford MD 21005

Status: Unutilized

Comments: 800 sq. ft., needs rehab, most recent use—range bldg., off-site use only

Army

Maryland

Building

Bldg. E1413

Property Number: 21200330127

Aberdeen Proving Grounds

Aberdeen Co: Harford MD 21005

Status: Unutilized

Comments: needs rehab, most recent use—observation tower, off-site use only

Bldg. E3175

Property Number: 21200330134

Aberdeen Proving Grounds

Aberdeen Co: Harford MD 21005

Status: Unutilized

Comments: 1296 sq. ft., needs rehab, most recent use—hazard bldg., off-site use only

4 Bldgs.

Property Number: 21200330135

Aberdeen Proving Grounds

Aberdeen Co: Harford MD 21005

Location: E3224, E3228, E3230, E3232, E3234

Status: Unutilized

Comments: sq. ft. varies, needs rehab, most recent use—lab test bldgs., off-site use only

Bldg. E3241

Property Number: 21200330136

Aberdeen Proving Grounds

Aberdeen Co: Harford MD 21005

Status: Unutilized

Comments: 592 sq. ft., needs rehab, most recent use—medical res bldg., off-site use only

Army

Maryland

Building

Bldg. E3300

Property Number: 21200330139

Aberdeen Proving Grounds

Aberdeen Co: Harford MD 21005

Status: Unutilized

Comments: 44,352 sq. ft., needs rehab, most recent use—chemistry lab, off-site use only

Bldg. E3335

Property Number: 21200330144

Aberdeen Proving Grounds

Aberdeen Co: Harford MD 21005

Status: Unutilized

Comments: 400 sq. ft., needs rehab, most recent use—storage, off-site use only

Bldgs. E3360, E3362, E3464

Property Number: 21200330145

Aberdeen Proving Grounds

Aberdeen Co: Harford MD 21005

Status: Unutilized

Comments: 3588/236 sq. ft., needs rehab, most recent use—storage, off-site use only

Bldg. E3542

Property Number: 21200330148

Aberdeen Proving Grounds

Aberdeen Co: Harford MD 21005

Status: Unutilized

Comments: 1,146 sq. ft., needs rehab, most recent use—lab test bldg., off-site use only

Bldg. E4420

Property Number: 21200330151

Aberdeen Proving Grounds

Aberdeen Co: Harford MD 21005

Status: Unutilized

Comments: 14,997 sq. ft., needs rehab, most recent use—police bldg., off-site use only

Army

Maryland

Building

4 Bldgs.

Property Number: 21200330154

Aberdeen Proving Grounds

Aberdeen Co: Harford MD 21005

Location: E5005, E5049, E5050, E5051

Status: Unutilized

Comments: sq. ft. varies, needs rehab, most recent use—storage, off-site use only

Bldg. E5068

Property Number: 21200330155

Aberdeen Proving Grounds

Aberdeen Co: Harford MD 21005

Status: Unutilized

Comments: 1200 sq. ft., needs rehab, most recent use—fire station, off-site use only

Bldgs. 05448, 05449

Property Number: 21200330161

Aberdeen Proving Grounds

Aberdeen Co: Harford MD 21005

Status: Unutilized

Comments: 6431 sq. ft., needs rehab, most recent use—enlisted UHP, off-site use only

Bldg. 05450

Property Number: 21200330162

Aberdeen Proving Grounds

Aberdeen Co: Harford MD 21005

Status: Unutilized

Comments: 2730 sq. ft., needs rehab, most recent use—admin., off-site use only

Army

Maryland

Building

Bldgs. 05451, 05455

Property Number: 21200330163

Aberdeen Proving Grounds

Aberdeen Co: Harford MD 21005

Status: Unutilized

Comments: 2730/6431 sq. ft., needs rehab, most recent use—storage, off-site use only

Bldg. 05453

Property Number: 21200330164

Aberdeen Proving Grounds

Aberdeen Co: Harford MD 21005

Status: Unutilized

Comments: 6431 sq. ft., needs rehab, most recent use—admin., off-site use only

Bldg. E5609

Property Number: 21200330167

Aberdeen Proving Grounds

Aberdeen Co: Harford MD 21005

Status: Unutilized

Comments: 2053 sq. ft., needs rehab, most recent use—storage, off-site use only

Bldg. E5611

Property Number: 21200330168

Aberdeen Proving Grounds

Aberdeen Co: Harford MD 21005

Status: Unutilized

Comments: 11,242 sq. ft., needs rehab, most recent use—hazard bldg., off-site use only

Bldg. E5634

Property Number: 21200330169

Aberdeen Proving Grounds

Aberdeen Co: Harford MD 21005

Status: Unutilized

Comments: 200 sq. ft., needs rehab, most recent use—flammable storage, off-site use only

Army

Maryland

Building

Bldg. E5654

Property Number: 21200330171

Aberdeen Proving Grounds

Aberdeen Co: Harford MD 21005

Status: Unutilized

Comments: 21,532 sq. ft., needs rehab, most recent use—storage, off-site use only

Bldg. E5942

Property Number: 21200330176

Aberdeen Proving Grounds

Aberdeen Co: Harford MD 21005

Status: Unutilized

Comments: 2147 sq. ft., needs rehab, most recent use—igloo storage, off-site use only

Bldgs. E5952, E5953

Property Number: 21200330177

Aberdeen Proving Grounds

Aberdeen Co: Harford MD 21005

Status: Unutilized

Comments: 100/24 sq. ft., needs rehab, most recent use—compressed air bldg., off-site use only

Bldgs. E7401, E7402

Property Number: 21200330178

Aberdeen Proving Grounds

Aberdeen Co: Harford MD 21005

Status: Unutilized

Comments: 256/440 sq. ft., needs rehab, most recent use—storage, off-site use only

Bldg. E7407, E7408

Property Number: 21200330179

Aberdeen Proving Grounds

Aberdeen Co: Harford MD 21005

Status: Unutilized

Comments: 1078/762 sq. ft., needs rehab, most recent use—decon facility, off-site use only

Army

Maryland

Building

Bldg. 3070A

Property Number: 21200420055

Aberdeen Proving Ground

Harford MD 21005

Status: Unutilized

Comments: 2299 sq. ft., most recent use—heat plant, off-site use only

Bldg. E5026

Property Number: 21200420056

Aberdeen Proving Ground

Harford MD 21005

Status: Unutilized

Comments: 20,536 sq. ft., most recent use—storage, off-site use only

Bldg. 05261

Property Number: 21200420057

Aberdeen Proving Ground

Harford MD 21005

Status: Unutilized

Comments: 10067 sq. ft., most recent use—maintenance, off-site use only

Bldg. E5876

Property Number: 21200440073

Aberdeen Proving Grounds

Aberdeen Co: Harford MD 21005

Status: Unutilized

Comments: 1192 sq. ft., needs rehab, most recent use—storage, off-site use only

Bldg. 00688

Property Number: 21200530080

Aberdeen Proving Ground

Aberdeen Co: Harford MD 21005

Status: Unutilized

Comments: 24,192 sq. ft., most recent use—ammo, off-site use only

Army

Maryland

Building

Bldg. 04925

Property Number: 21200540091

Aberdeen Proving Ground

Aberdeen Co: Harford MD 21005

Status: Unutilized

Comments: 1326 sq. ft., off-site use only

Bldg. 00255

Property Number: 21200720052

Aberdeen Proving Ground

Harford MD 21005

Status: Unutilized

Comments: 64 sq. ft., most recent use—storage, off-site use only

Bldg. 00638

Property Number: 21200720053

Aberdeen Proving Ground

Harford MD 21005

Status: Unutilized

Comments: 4295 sq. ft., most recent use—storage, off-site use only

Bldg. 00721

Property Number: 21200720054

Aberdeen Proving Ground

Harford MD

Status: Unutilized

Comments: 135 sq. ft., most recent use—storage, off-site use only

Bldgs. 00936, 00937

Property Number: 21200720055

Aberdeen Proving Ground

Harford MD 21005

Status: Unutilized

Comments: 2000 sq. ft., most recent use—storage, off-site use only

Army

Maryland

Building

Bldgs. E1410, E1434

Property Number: 21200720056

Aberdeen Proving Ground

Harford MD 21005

Status: Unutilized

Comments: 2276/3106 sq. ft., most recent use—laboratory, off-site use only

Bldg. 03240

Property Number: 21200720057

Aberdeen Proving Ground

Harford MD 21005

Status: Unutilized

Comments: 10,049 sq. ft., most recent use—office, off-site use only

Bldg. E3834

Property Number: 21200720058

Aberdeen Proving Ground

Harford MD 21005

Status: Unutilized

Comments: 72 sq. ft., most recent use—office, off-site use only

Bldgs. E4465, E4470, E4480

Property Number: 21200720059

Aberdeen Proving Ground

Harford MD 21005

Status: Unutilized

Comments: 17658/16876/17655 sq. ft., most recent use—office, off-site use only

Bldgs. E5137, 05219

Property Number: 21200720060

Aberdeen Proving Ground

Harford MD 21005

Status: Unutilized

Comments: 3700/8175 sq. ft., most recent use—office, off-site use only

Army

Maryland

Building

Bldg. E5236

Property Number: 21200720061

Aberdeen Proving Ground

Harford MD 21005

Status: Unutilized

Comments: 10325 sq. ft., most recent use—storage, off-site use only

Bldg. E5282

Property Number: 21200720062

Aberdeen Proving Ground

Harford MD 21005

Status: Unutilized

Comments: 4820 sq. ft., most recent use—hazard bldg., off-site use only

Bldgs. E5736, E5846, E5926

Property Number: 21200720063

Aberdeen Proving Ground

Harford MD 21005

Status: Unutilized

Comments: 1069/4171/11279 sq. ft., most recent use—storage, off-site use only

Bldg. E6890

Property Number: 21200720064

Aberdeen Proving Ground

Harford MD 21005

Status: Unutilized

Comments: 1 sq. ft., most recent use—impact area, off-site use only

Bldg. 00310

Property Number: 21200820077

Aberdeen Proving Ground

Harford MD 21005

Status: Unutilized

Comments: 56516 sq. ft., most recent use—admin., off-site use only

Army

Maryland

Building

Bldg. 00315

Property Number: 21200820078

Aberdeen Proving Ground

Harford MD

Status: Unutilized

Comments: 74396 sq. ft., most recent use—mach shop, off-site use only

Bldg. 00338

Property Number: 21200820079

Aberdeen Proving Ground

Harford MD

Status: Unutilized

Comments: 45443 sq. ft., most recent use—gnd tran eqp, off-site use only

Bldg. 00360

Property Number: 21200820080

Aberdeen Proving Ground

Harford MD

Status: Unutilized

Comments: 15287 sq. ft., most recent use—general inst., off-site use only

Bldg. 00445

Property Number: 21200820081

Aberdeen Proving Ground

Harford MD

Status: Unutilized

Comments: 6367 sq. ft., most recent use—lab, off-site use only

Bldg. 00851

Property Number: 21200820082

Aberdeen Proving Ground

Harford MD

Status: Unutilized

Comments: 694 sq. ft., most recent use—range bldg., off-site use only

Army

Maryland

Building

Bldg. E1043

Property Number: 21200820083

Aberdeen Proving Ground

Harford MD

Status: Unutilized

Comments: 5200 sq. ft., most recent use—lab, off-site use only

Bldg. 01089

Property Number: 21200820084

Aberdeen Proving Ground

Harford MD

Status: Unutilized

Comments: 12369 sq. ft., most recent use—veh maint, off-site use only

Bldg. 01091

Property Number: 21200820085

Aberdeen Proving Ground

Harford MD

Status: Unutilized

Comments: 2201 sq. ft., most recent use—storage, off-site use only

Bldg. E1386

Property Number: 21200820086

Aberdeen Proving Ground

Harford MD

Status: Unutilized

Comments: 251 sq. ft., most recent use—eng/mnt, off-site use only

Army

Maryland

Building

5 Bldgs.

Property Number: 21200820087

Aberdeen Proving Ground

Harford MD

Location: E1440, E1441, E1443, E1445, E1455

Status: Unutilized

Comments: 112 sq. ft., most recent use—safety shelter, off-site use only

Bldgs. E1467, E1485

Property Number: 21200820088

Aberdeen Proving Ground

Harford MD

Status: Unutilized

Comments: 160/800 sq. ft., most recent use—storage, off-site use only

Bldg. E1521

Property Number: 21200820090

Aberdeen Proving Ground

Harford MD

Status: Unutilized

Comments: 1200 sq. ft., most recent use—overhead protection, off-site use only

Bldg. E1570

Property Number: 21200820091

Aberdeen Proving Ground

Harford MD

Status: Unutilized

Comments: 47027 sq. ft., most recent use—office, off-site use only

Army

Maryland

Building

Bldg. E1572

Property Number: 21200820092

Aberdeen Proving Ground

Harford MD

Status: Unutilized

Comments: 1402 sq. ft., most recent use—maint. off-site use only

4 Bldgs.

Property Number: 21200820093

Aberdeen Proving Ground

Harford MD

Location: E1645, E1675, E1677, E1930

Status: Unutilized

Comments: various sq. ft., most recent use—office, off-site use only

Bldgs. E2160, E2184, E2196

Property Number: 21200820094

Aberdeen Proving Ground

Harford MD

Status: Unutilized

Comments: 12440/13816 sq. ft., most recent use—storage, off-site use only

Bldg. E2174

Property Number: 21200820095

Aberdeen Proving Ground

Harford MD

Status: Unutilized

Comments: 132 sq. ft., off-site use only

Army

Maryland

Building

Bldgs. 02208, 02209

Property Number: 21200820096

Aberdeen Proving Ground

Harford MD

Status: Unutilized

Comments: 11566/18085 sq. ft., most recent use—lodging, off-site use only

Bldg. 02353

Property Number: 21200820097

Aberdeen Proving Ground

Harford MD

Status: Unutilized

Comments: 19252 sq. ft., most recent use—veh maint, off-site use only

Bldgs. 02482, 02484

Property Number: 21200820098

Aberdeen Proving Ground

Harford MD

Status: Unutilized

Comments: 8359 sq. ft., most recent use—gen purp, off-site use only

Bldg. 02483

Property Number: 21200820099

Aberdeen Proving Ground

Harford MD

Status: Unutilized

Comments: 1360 sq. ft., most recent use—heat plt, off-site use only

Bldgs. 02504, 02505

Property Number: 21200820100

Aberdeen Proving Ground

Harford MD

Status: Unutilized

Comments: 11720/17434 sq. ft., most recent use—lodging, off-site use only

Army

Maryland

Building

Bldgs. 02831, E3488

Property Number: 21200820101

Aberdeen Proving Ground

Harford MD

Status: Unutilized

Comments: 576/64 sq. ft., most recent use—access cnt fac, off-site use only

Bldg. 2831A

Property Number: 21200820102

Aberdeen Proving Ground

Harford MD

Status: Unutilized

Comments: 1200 sq. ft., most recent use—overhead protection, off-site use only

Bldg. 03320

Property Number: 21200820103

Aberdeen Proving Ground

Harford MD

Status: Unutilized

Comments: 10600 sq. ft., most recent use—admin, off-site use only

Bldg. E3466

Property Number: 21200820104

Aberdeen Proving Ground

Aberdeen MD

Status: Unutilized

Comments: 236 sq. ft., most recent use—protective barrier, off-site use only

Army

Maryland

Building

4 Bldgs.

Property Number: 21200820105

Aberdeen Proving Ground

Harford MD

Location: E3510, E3570, E3640, E3832

Status: Unutilized

Comments: various sq. ft., most recent use—lab, off-site use only

Bldg. E3544

Property Number: 21200820106

Aberdeen Proving Ground

Harford MD

Status: Unutilized

Comments: 5400 sq. ft., most recent use—ind waste, off-site use only

Bldgs. E3561, 03751

Property Number: 21200820107

Aberdeen Proving Ground

Harford MD

Status: Unutilized

Comments: 64/189 sq. ft., most recent use—access cnt fac, off-site use only

Bldg. 03754

Property Number: 21200820108

Aberdeen Proving Ground

Harford MD

Status: Unutilized

Comments: 324 sq. ft., most recent use—classroom, off-site use only

Army

Maryland

Building

Bldg. 3823A

Property Number: 21200820109

Aberdeen Proving Ground

Harford MD

Status: Unutilized

Comments: 113 sq. ft., most recent use—shed, off-site use only

Bldg. E3948

Property Number: 21200820110

Aberdeen Proving Ground

Harford MD

Status: Unutilized

Comments: 3420 sq. ft., most recent use—emp chg fac, off-site use only

4 Bldgs.

Property Number: 21200820111

Aberdeen Proving Ground

Harford MD

Location: E5057, E5058, E5246, 05258

Status: Unutilized

Comments: various sq. ft., most recent use—storage, off-site use only

Bldgs. E5106, 05256

Property Number: 21200820112

Aberdeen Proving Ground

Harford MD

Status: Unutilized

Comments: 18621/8720 sq. ft., most recent use—office, off-site use only

Army

Maryland

Building

Bldg. E5126

Property Number: 21200820113

Aberdeen Proving Ground

Harford MD

Status: Unutilized

Comments: 17664 sq. ft., most recent use—heat plt, off-site use only

Bldg. E5128

Property Number: 21200820114

Aberdeen Proving Ground

Harford MD

Status: Unutilized

Comments: 3750 sq. ft., most recent use—substation, off-site use only

Bldg. E5188

Property Number: 21200820115

Aberdeen Proving Ground

Harford MD

Status: Unutilized

Comments: 22790 sq. ft., most recent use—lab, off-site use only

Bldg. E5179

Property Number: 21200820116

Aberdeen Proving Ground

Harford MD

Status: Unutilized

Comments: 47335 sq. ft., most recent use—info sys, off-site use only

Bldg. E5190

Property Number: 21200820117

Aberdeen Proving Ground

Harford MD

Status: Unutilized

Comments: 874 sq. ft., most recent use—storage, off-site use only

Army

Maryland

Building

Bldg. 05223

Property Number: 21200820118

Aberdeen Proving Ground

Harford MD

Status: Unutilized

Comments: 6854 sq. ft., most recent use—gen rep inst, off-site use only

Bldgs. 05259, 05260

Property Number: 21200820119

Aberdeen Proving Ground

Harford MD

Status: Unutilized

Comments: 10067 sq. ft., most recent use—maint, off-site use only

Bldgs. 05263, 05264

Property Number: 21200820120

Aberdeen Proving Ground

Harford MD

Status: Unutilized

Comments: 200 sq. ft., most recent use—org space, off-site use only

5 Bldgs.

Property Number: 21200820121

Aberdeen Proving Ground

Harford MD

Location: 05267, E5294, E5327, E5441, E5485

Status: Unutilized

Comments: various sq. ft., most recent use—storage, off-site use only

Army

Maryland

Building

Bldg. E5292

Property Number: 21200820122

Aberdeen Proving Ground

Harford MD

Status: Unutilized

Comments: 1166 sq. ft., most recent use—comp rep inst, off-site use only

Bldg. E5380

Property Number: 21200820123

Aberdeen Proving Ground

Harford MD

Status: Unutilized

Comments: 9176 sq. ft., most recent use—lab, off-site use only

Bldg. E5452

Property Number: 21200820124

Aberdeen Proving Ground

Harford MD

Status: Unutilized

Comments: 9623 sq. ft., off-site use only

Bldg. 05654

Property Number: 21200820125

Aberdeen Proving Ground

Harford MD

Status: Unutilized

Comments: 38 sq. ft. most recent use—shed, off-site use only

Bldg. 05656

Property Number: 21200820126

Aberdeen Proving Ground

Harford MD

Status: Unutilized

Comments: 2240 sq. ft., most recent use—overhead protection off-site use only

Army

Maryland

Building

5 Bldgs.

Property Number: 21200820127

Aberdeen Proving Ground

Harford MD

Location:

E5730, E5738, E5915, E5928, E6875

Status: Unutilized

Comments: various sq. ft., most recent use—storage, off-site use only

Bldg. E5770

Property Number: 21200820128

Aberdeen Proving Ground

Harford MD

Status: Unutilized

Comments: 174 sq. ft., most recent use—cent wash, off-site use only

Bldg. E5840

Property Number: 21200820129

Aberdeen Proving Ground

Harford MD

Status: Unutilized

Comments: 14200 sq. ft., most recent use—lab, off-site use only

Bldg. E5946

Property Number: 21200820130

Aberdeen Proving Ground

Harford MD

Status: Unutilized

Comments: 2147 sq. ft., most recent use—igloo str, off-site use only

Army

Maryland

Building

Bldg. E6872

Property Number: 21200820131

Aberdeen Proving Ground

Harford MD

Status: Unutilized

Comments: 1380 sq. ft., most recent use—dispatch, off-site use only

Bldgs. E7331, E7332, E7333

Property Number: 21200820132

Aberdeen Proving Ground

Harford MD

Status: Unutilized

Comments: most recent use—protective barrier, off-site use only

Bldg. E7821

Property Number: 21200820133

Aberdeen Proving Ground

Harford MD

Status: Unutilized

Comments: 3500 sq. ft., most recent use—xmitter bldg, off-site use only

Bldg. 02483

Property Number: 21200920025

Aberdeen Proving Ground

Harford MD 21005

Status: Unutilized

Comments: 1360 sq. ft., most recent use—heat plt bldg., off-site use only

Bldg. 03320

Property Number: 21200920026

Aberdeen Proving Ground

Harford MD 21005

Status: Unutilized

Comments: 10,600 sq. ft., most recent use—admin., off-site use only

Army

Maryland

Building

Bldg. 06186

Property Number: 21201110026

Ft. Detrick

Fredrick MD 21702

Status: Unutilized

Comments: off-site removal only, 14033 sq. ft., current use: communications ctr., bldg. not energy efficient but fair condition

Bldg. 01692

Property Number: 21201110028

Ft. Detrick

Fredrick MD 21702

Status: Unutilized

Comments: off-site removal only, 1000 sq. ft. current use; communications ctr., bldg. is not energy efficient but in fair condition

Land

2 acres

Property Number: 21200640095

Fort Meade

Odenton Rd/Rt 175

Ft. Meade MD 20755

Status: Unutilized

Comments: light industrial

16 acres

Property Number: 21200640096

Fort Meade

Rt 198/Airport Road

Ft. Meade MD 20755

Status: Unutilized

Comments: light industrial

Army

Missouri

Building

Bldg. T1497

Property Number: 21199420441

Fort Leonard Wood

Ft. Leonard Wood Co: Pulaski MO 65473-5000

Status: Underutilized

Comments: 4720 sq. ft., 2-story, presence of lead base paint, most recent use—admin/gen. purpose, off-site use only

Bldg. T2139

Property Number: 21199420446

Fort Leonard Wood

Ft. Leonard Wood Co: Pulaski MO 65473-5000

Status: Underutilized

Comments: 3663 sq. ft., 1-story, presence of lead base paint, most recent use—admin/gen. purpose, off-site use only

Bldg. T2385

Property Number: 21199510115

Fort Leonard Wood

Ft. Leonard Wood Co: Pulaski MO 65473

Status: Excess

Comments: 3158 sq. ft., 1-story, wood frame, most recent use—admin., to be vacated 8/95, off-site use only

Bldg. 2167

Property Number: 21199820179

Fort Leonard Wood

Ft. Leonard Wood Co: Pulaski MO 65473-5000

Status: Unutilized

Comments: 1296 sq. ft., presence of asbestos/lead paint, most recent use—admin., off-site use only

Army

Missouri

Building

Bldgs. 2192, 2196, 2198

Property Number: 21199820183

Fort Leonard Wood

Ft. Leonard Wood Co: Pulaski MO 65473-5000

Status: Unutilized

Comments: 4720 sq. ft., presence of asbestos/lead paint, most recent use—barracks, off-site use only

12 Bldgs

Property Number: 21200410110

Fort Leonard Wood

Ft. Leonard Wood Co: Pulaski MO 65743-8944

Location: 07036, 07050, 07054, 07102, 07400, 07401, 08245, 08249 08251, 08255, 08257, 08261.

Status: Unutilized

Comments: 7152 sq. ft. 6 plex housing quarters, potential contaminants, off-site use only

6 Bldg

Property Number: 21200410111

Fort Leonard Wood

Ft. Leonard Wood Co: Pulaski MO 65743-8944

Location: 07044, 07106, 07107, 08260, 08281, 08300

Status: Unutilized

Comments: 9520 sq ft., 8 plex housing quarters, potential contaminants, off-site use only

15 Bldgs

Property Number: 21200410112

Fort Leonard Wood

Ft. Leonard Wood Co: Pulaski MO 65743-8944

Location: 08242, 08243, 08246-08248, 08250, 08252-08254, 08256, 08258-08259, 08262-08263, 08265

Status: Unutilized

Comments: 4784 sq ft., 4 plex housing quarters, potential contaminants, off-site use only

Army

Missouri

Building

Bldgs. 08283, 08285

Property Number: 21200410113

Fort Leonard Wood

Ft. Leonard Wood Co: Pulaski MO 65743-8944

Status: Unutilized

Comments: 2240 sq ft, 2 plex housing quarters, potential contaminants, off-site use only

15 Bldgs

Property Number: 21200410114

Fort Leonard Wood

Ft. Leonard Wood Co: Pulaski MO 65743-0827

Location: 08267, 08269, 08271, 08273, 08275, 08277, 08279, 08290, 08296, 08301

Status: Unutilized

Comments: 4784 sq ft., 4 plex housing quarters, potential contaminants, off-site use only

Bldg 09432

Property Number: 21200410115

Fort Leonard Wood

Ft. Leonard Wood Co: Pulaski MO 65743-8944

Status: Unutilized

Comments: 8724 sq ft., 6-plex housing quarters, potential contaminants, off-site use only.

Bldgs. 5006 and 5013

Property Number: 21200430064

Fort Leonard Wood

Ft. Leonard Wood Co: Pulaski MO 65743-8944

Status: Unutilized

Comments: 192 sq. ft., needs repair, most recent use—generator bldg., off-site use only

Army

Missouri

Building

Bldgs. 13210, 13710

Property Number: 21200430065

Fort Leonard Wood

Ft. Leonard Wood Co: Pulaski MO 65743-8944

Status: Unutilized

Comments: 144 sq. ft. each, needs repair, most recent use—communication, off-site use only

Montana

Building

Bldg. 00405

Property Number: 21200130099

Fort Harrison

Ft. Harrison Co: Lewis/Clark MT 59636

Status: Unutilized

Comments: 3467 sq. ft., most recent use—storage, security limitations

Bldg. T0066

Property Number: 21200130100

Fort Harrison

Ft. Harrison Co: Lewis/Clark MT 59636

Status: Unutilized

Comments: 528 sq. ft., needs rehab, presence of asbestos, security limitations

Bldg. 00001

Property Number: 21200540093

Sheridan Hall USARC

Helena MT 59601

Status: Unutilized

Comments: 19,321 sq. ft., most recent use—Reserve Center

Army

Montana

Building

Bldg. 00003

Property Number: 21200540094

Sheridan Hall USARC

Helena MT 59601

Status: Unutilized

Comments: 1950 sq. ft., most recent use—maintenance/storage

New Mexico

Building

Bldg. 34198

Property Number: 21200230062

White Sands Missile Range

Dona Ana NM 88002

Status: Excess

Comments: 107 sq. ft., most recent use—security, off-site use only

New York

Building

Bldg.1227

Property Number: 21200440074

U.S. Military Academy

Highlands Co: Orange NY 10996-1592

Status: Unutilized

Comments: 3800 sq. ft., needs repair, possible asbestos/lead paint, most recent use—maintenance, off-site use only

Army

New York

Building

Bldg. 2218

Property Number: 21200510067

Stewart Newburg USARC

New Windsor Co: Orange NY 12553-9000

Status: Unutilized

Comments: 32,000 sq. ft., poor condition, requires major repairs, most recent use—storage/services

7 Bldgs.

Property Number: 21200510068

Stewart Newburg USARC

New Windsor Co: Orange NY 12553-9000

Location: 2122, 2124, 2126, 2128, 2106, 2108, 2104

Status: Unutilized

Comments: sq. ft. varies, poor condition, needs major repairs, most recent use—storage/services

Bldg. 1230

Property Number: 21200940014

U.S. Army Garrison

Orange NY 10996

Status: Unutilized

Comments: 4538 sq. ft., possible asbestos/lead paint, most recent use—clubhouse, off-site use only

Bldg. 4802

Property Number: 21201010019

Fort Drum

Jefferson NY 13602

Status: Unutilized

Comments: 3300 sq. ft., most recent use—hdgts. facility, off-site use only

Bldgs. 4813

Property Number: 21201010020

Fort Drum

Jefferson NY 13602

Status: Unutilized

Comments: 750 sq. ft., most recent use—wash rack, off-site use only

Army

New York

Building

Bldg. 4814

Property Number: 21201010021

Fort Drum

Jefferson NY 13602

Status: Unutilized

Comments: 2592 sq. ft., most recent use—item repair, off-site use only

Bldgs. 1240, 1255

Property Number: 21201010022

Fort Drum

Jefferson NY 13602

Status: Unutilized

Comments: various sq. ft., most recent use—vehicle maint. facility, off-site use only

6 Bldgs.

Property Number: 21201010023

Fort Drum

Jefferson NY 13602

Location: 1248, 1250, 1276, 2361, 4816, 4817

Status: Unutilized

Comments: various sq. ft., most recent use—storage, off-site use only

Bldg. 1050

Property Number: 21201010024

Fort Drum

Jefferson NY 13602

Status: Unutilized

Comments: 1493 sq. ft., most recent use—training, off-site use only

Army

New York

Building

Bldg. 10791

Property Number: 21201010025

Fort Drum

Jefferson NY 13602

Status: Unutilized

Comments: 72 sq. ft., most recent use—smoking shelter, off-site use only

6 Bldgs.

Property Number: 21201110049

Ft. Drum

Watertown NY 13602

Location: 01000, 01001, 01003,01008,01010,01012

Status: Underutilized

Comments: off-site removal only, multiple bldgs. w/varies sq.ft. current use varies

21 Bldgs.

Property Number: 21201140026

Ft. Drum

Ft. Drum NY 13602

Location: 10280, 10281, 10282, 10283, 10284, 10285, 10286, 10288, 10289, 10290, 10291, 10503, 10504, 10505, 10506, 10590, 10591, 10592, 10593, 10594, 10595

Status: Unutilized

Comments: off-site removal only; sq. ft. varies; current use: concrete pad

Bldg. 02713

Property Number: 21201140028

Ft. Drum

Ft. Drum NY 13602

Status: Underutilized

Comments: off-site removal only; 1,029 sq. ft.; need major repairs; current use: Administrative office

Army

New York

Building

2 Bldgs.

Property Number: 21201140030

Ft. Drum

Ft. Drum NY 13602

Location: 1444 and 1445

Status: Underutilized

Comments: off-site removal only; bldg. 1444 = 4,166 sq. ft.; bldg. 1445 = 7,219 sq. ft.; current use: varies; need extensive repairs to both bldgs.

Ohio

Land

Land

Property Number: 21200340094

Defense Supply Center

Columbus Co: Franklin OH 43216-5000

Status: Excess

Comments: 11 acres, railroad access

Oklahoma

Building

Bldg. T-838, Fort Sill

Property Number: 21199220609

838 Macomb Road

Lawton Co: Comanche OK 73503-5100

Status: Unutilized

Comments: 151 sq. ft., wood frame, 1 story, off-site removal only, most recent use—vet facility (quarantine stable).

Bldg. T-954, Fort Sill

Property Number: 21199240659

954 Quintet Road

Lawton Co: Comanche OK 73503-5100

Status: Unutilized

Comments: 3571 sq. ft., 1 story wood frame, needs rehab, off-site use only, most recent use—motor repair shop.

Army

Oklahoma

Building

Bldg. T-3325, Fort Sill

Property Number: 21199240681

3325 Naylor Road

Lawton Co: Comanche OK 73503-5100

Status: Unutilized

Comments: 8832 sq. ft., 1 story wood frame, needs rehab, off-site use only, most recent use—warehouse.

Bldg. T-4226

Property Number: 21199440384

Fort Sill

Lawton Co: Comanche OK 73503

Status: Unutilized

Comments: 114 sq. ft., 1-story wood frame, possible asbestos and lead paint, most recent use—storage, off-site use only

Bldg. P-1015, Fort Sill

Property Number: 21199520197

Lawton Co: Comanche OK 73501-5100

Status: Unutilized

Comments: 15402 sq. ft., 1-story, most recent use—storage, off-site use only

Bldg. P-366, Fort Sill

Property Number: 21199610740

Lawton Co: Comanche OK 73503

Status: Unutilized

Comments: 482 sq. ft., possible asbestos, most recent use—storage, off-site use only

Building P-5042

Property Number: 21199710066

Fort Sill

Lawton Co: Comanche OK 73503-5100

Status: Unutilized

Comments: 119 sq. ft., possible asbestos and lead paint, most recent use—heat plant, off-site use only

Army

Oklahoma

Building

4 Buildings

Property Number: 21199710086

Fort Sill

Lawton Co: Comanche OK 73503-5100

Location: T-6465, T-6466, T-6467, T-6468

Status: Unutilized

Comments: various sq. ft., possible asbestos and lead paint, most recent use—range support, off site use only

Bldg. T-810

Property Number: 21199730350

Fort Sill

Lawton Co: Comanche OK 73503-5100

Status: Unutilized

Comments: 7205 sq. ft., possible asbestos/lead paint, most recent use—hay storage, off-site use only

Bldgs. T-837, T-839

Property Number: 21199730351

Fort Sill

Lawton Co: Comanche OK 73503-5100

Status: Unutilized

Comments: approx. 100 sq. ft. each, possible asbestos/lead paint, most recent use—storage, offsite use only

Bldg. P-934

Property Number: 21199730353

Fort Sill

Lawton Co: Comanche OK 73503-5100

Status: Unutilized

Comments: 402 sq. ft., possible asbestos/lead paint, most recent use—storage, off-site use only

Bldgs. T-1468, T-1469

Property Number: 21199730357

Fort Sill

Lawton Co: Comanche OK 73503-5100

Status: Unutilized

Comments: 114 sq. ft., possible asbestos/lead paint, most recent use—storage, off-site use only

Bldg. T-1470

Property Number: 21199730358

Fort Sill

Lawton Co: Comanche OK 73503-5100

Status: Unutilized

Comments: 3120 sq. ft., possible asbestos/lead paint, most recent use—storage, off-site use only

Bldgs. T-1954, T-2022

Property Number: 21199730362

Fort Sill

Lawton Co: Comanche OK 73503-5100

Status: Unutilized

Comments: approx. 100 sq. ft. each, possible asbestos/lead paint, most recent use—storage, offsite use only

Bldg. T-2184

Property Number: 21199730364

Fort Sill

Lawton Co: Comanche OK 73503-5100

Status: Unutilized

Comments: 454 sq. ft., possible asbestos/lead paint, most recent use—storage, off-site use only

Army

Oklahoma

Building

Bldgs. T-2186, T-2188, T-2189

Property Number: 21199730366

Fort Sill

Lawton Co: Comanche OK 73503-5100

Status: Unutilized

Comments: 1656-3583 sq. ft., possible asbestos/lead paint, most recent use—vehicle maint. shop, off-site use only

Bldg. T-2187

Property Number: 21199730367

Fort Sill

Lawton Co: Comanche OK 73503-5100

Status: Unutilized

Comments: 1673 sq. ft., possible asbestos/lead paint, most recent use—storage, off-site use only

Bldgs. T-2291 thru T-2296

Property Number: 21199730372

Fort Sill

Lawton Co: Comanche OK 73503-5100

Status: Unutilized

Comments: 400 sq. ft. each, possible asbestos/lead paint, most recent use—storage, off-site use only

Bldgs. T-3001, T-3006

Property Number: 21199730383

Fort Sill

Lawton Co: Comanche OK 73503-5100

Status: Unutilized

Comments: approx. 9300 sq. ft., possible asbestos/lead paint, most recent use—storage, off-site use only

Army

Oklahoma

Building

Bldg. T-3314

Property Number: 21199730385

Fort Sill

Lawton Co: Comanche OK 73503-5100

Status: Unutilized

Comments: 229 sq. ft., possible asbestos/lead paint, most recent use—office, off-site use only

Bldg. T-5041

Property Number: 21199730409

Fort Sill

Lawton Co: Comanche OK 73503-5100

Status: Unutilized

Comments: 763 sq. ft., possible asbestos/lead paint, most recent use—storage, off-site use only

Bldg. T-5420

Property Number: 21199730414

Fort Sill

Lawton Co: Comanche OK 73503-5100

Status: Unutilized

Comments: 189 sq. ft., possible asbestos/lead paint, most recent use—fuel storage, off-site use only

Bldg. T-7775

Property Number: 21199730419

Fort Sill

Lawton Co: Comanche OK 73503-5100

Status: Unutilized

Comments: 1452 sq. ft., possible asbestos/lead paint, most recent use—private club, off-site use only

Army

Oklahoma

Building

4 Bldgs.

Property Number: 21199910133

Fort Sill

P-617, P-1114, P-1386, P-1608

Lawton Co: Comanche OK 73503-5100

Status: Unutilized

Comments: 106 sq. ft., possible asbestos/lead paint, most recent use—utility plant, off-site use only

Bldg. P-746

Property Number: 21199910135

Fort Sill

Lawton Co: Comanche OK 73503-5100

Status: Unutilized

Comments: 6299 sq. ft., possible asbestos/lead paint, most recent use—admin., off-site use only

Bldg. P-2582

Property Number: 21199910141

Fort Sill

Lawton Co: Comanche OK 73503-5100

Status: Unutilized

Comments: 3672 sq. ft., possible asbestos/lead paint, most recent use—admin., off-site use only

Bldg. P-2914

Property Number: 21199910146

Fort Sill

Lawton Co: Comanche OK 73503-5100

Status: Unutilized

Comments: 1236 sq. ft., possible asbestos/lead paint, most recent use—storage, off-site use only

Bldg. P-5101

Property Number: 21199910153

Fort Sill

Lawton Co: Comanche OK 73503-5100

Status: Unutilized

Comments: 82 sq. ft., possible asbestos/lead paint, most recent use—gas station, off-site use only

Army

Oklahoma

Building

Bldg. S-6430

Property Number: 21199910156

Fort Sill

Lawton Co: Comanche OK 73503-5100

Status: Unutilized

Comments: 2080 sq. ft., possible asbestos/lead paint, most recent use—range support, off-site use only

Bldg. T-6461

Property Number: 21199910157

Fort Sill

Lawton Co: Comanche OK 73503-5100

Status: Unutilized

Comments: 200 sq. ft., possible asbestos/lead paint, most recent use—range support, off-site use only

Bldg. T-6462

Property Number: 21199910158

Fort Sill

Lawton Co: Comanche OK 73503-5100

Status: Unutilized

Comments: 64 sq. ft., possible asbestos/lead paint, most recent use—control tower, off-site use only

Bldg. P-7230

Property Number: 21199910159

Fort Sill

Lawton Co: Comanche OK 73503-5100

Status: Unutilized

Comments: 160 sq. ft., possible asbestos/lead paint, most recent use—transmitter bldg., off-site use only

Army

Oklahoma

Building

Bldg. S-4023

Property Number: 21200010128

Fort Sill

Lawton Co: Comanche OK 73503-5100

Status: Unutilized

Comments: 1200 sq. ft., possible asbestos/lead paint, most recent use—storage, off-site use only

Bldg. P-747

Property Number: 21200120120

Fort Sill

Lawton Co: Comanche OK 73503-5100

Status: Unutilized

Comments: 9232 sq. ft., possible asbestos/lead paint, most recent use—lab, off-site use only

Bldg. P-842

Property Number: 21200120123

Fort Sill

Lawton Co: Comanche OK 73503-5100

Status: Unutilized

Comments: 192 sq. ft., possible asbestos/lead paint, most recent use—storage, off-site use only

Bldg. T-911

Property Number: 21200120124

Fort Sill

Lawton Co: Comanche OK 73503-5100

Status: Unutilized

Comments: 3080 sq. ft., possible asbestos/lead paint, most recent use—office, off-site use only

Bldg. P-1672

Property Number: 21200120126

Fort Sill

Lawton Co: Comanche OK 73503-5100

Status: Unutilized

Comments: 1056 sq. ft., possible asbestos/lead paint, most recent use—storage, off-site use only

Army

Oklahoma

Building

Bldg. S-2362

Property Number: 21200120127

Fort Sill

Lawton Co: Comanche OK 73503-5100

Status: Unutilized

Comments: 64 sq. ft., possible asbestos/lead paint, most recent use—gatehouse, off-site use only

Bldg. P-2589

Property Number: 21200120129

Fort Sill

Lawton Co: Comanche OK 73503-5100

Status: Unutilized

Comments: 3672 sq. ft., possible asbestos/lead paint, most recent use—storage, off-site use only

Bldgs. 00937, 00957

Property Number: 21200710104

Fort Sill

Lawton OK 73501

Status: Unutilized

Comments: 1558 sq. ft., most recent use—storage shed off-site use only

Bldg.01514

Property Number: 21200710105

Fort Sill

Lawton OK 73501

Status: Unutilized

Comments: 1602 sq. ft., most recent use—storage, off-site use only

Bldg. 05685

Property Number: 21200820152

Fort Sill

Lawton OK 73501

Status: Unutilized

Comments: 24,072 sq. ft., concrete block/w brick, off-site use only

Army

Oklahoma

Building

Bldg. 07480

Property Number: 21200920002

Fort Sill

Lawton OK 73501

Status: Unutilized

Comments: 1200 sq. ft., most recent use—recreation, off-site use only

Bldgs. 01509, 01510

Property Number: 21200920060

Fort Sill

Lawton OK 73501

Status: Unutilized

Comments: various sq. ft., most recent use—vehicle maint. shop, off-site use only

4 Bldgs.

Property Number: 21200920061

Fort Sill

2591, 2593, 2595, 2604

Lawton OK 73501

Status: Unutilized

Comments: various sq. ft., most recent use—classroom/admin, off-site use only

Bldg. 06456

Property Number: 21200930003

Fort Sill

Lawton OK 73501

Status: Unutilized

Comments: 413 sq. ft. range support facility, off-site use only

Army

Oklahoma

Building

Fort Sill (5 Bldgs.)

Property Number: 21201110022

2583-87 Currie Road

Lawton Co: Comanche OK 73501-5100

Location: Bldgs: 02583, 02584, 02585, 02586, 02587

Status: Unutilized

Comments: Off-site removal only, sq. ft. varies; current use varies

Fort Sill (5 Bldgs.)

Property Number: 21201110023

Currie Road

Lawton Co: Comanche OK 73501-5100

Location: Bldgs. 02588, 02769, 02770, 02771, 02950

Status: Unutilized

Comments: Off-site removal only, sq. ft. varies; current use varied

Bldgs. 02990 & 05020

Property Number: 21201110024

Fort Sill

Lawton Co: Comanche OK 73501-5100

Status: Unutilized

Comments: Off-site removal only, bldg. 02990—3,715 sq. ft. and bldg. 05020—6,682 sq. ft.; current use fast food facility and storage

Army

South Carolina

Building

Bldg. M7511

Property Number: 21201140017

Ft. Jackson

Ft. Jackson SC 29207

Status: Unutilized

Comments: 220 sq. ft.; current use: sep/toil/shower; needs repairs; control access gates

Bldg. 3499 Property Number: 21201140018

Ft. Jackson

Ft. Jackson SC 29207

Status: Underutilized

Comments: 1,871 sq. ft.; current use: office space; need repairs; control access gates

Bldg. 02464

Property Number: 21201140021

Ft. Jackson

Ft. Jackson SC 29207

Status: Underutilized

Comments: 27,048 sq. ft.; current use: lodging; limitations w/Ft. Jackson controlled access points

Bldg. 02785

Property Number: 21201140022

Ft. Jackson

Ft. Jackson SC 29207

Status: Unutilized

Comments: 80,130 sq. ft.; current use: UOQ military; limitations w/Ft. Jackson controlled access points

Army

South Carolina

Building

6 Bldgs.

Property Number: 21201140023

Ft. Jackson

Ft. Jackson SC 29207

Location: 02102, 02103, 02105, 02106, 02107, 02108

Status: Underutilized

Comments: sq. ft. varies; current use: classroom to trainee bks.; need repairs; limitations w/controlled access points

M7512

Property Number: 21201140025

Ft. Jackson

Ft. Jackson SC 29207

Status: Underutilized

Comments: 220 sq. ft.; current use: sep/toil/shower; need repairs; control access gates

South Dakota

Building

Bldg. 03001

Property Number: 21200740187

Jonas H. Lien AFRC

Sioux Falls SD 57104

Status: Unutilized

Comments: 33282 sq. ft., most recent use—training center

Bldg. 03003

Property Number: 21200740188

Jonas H. Lien AFRC

Sioux Falls SD 57104

Status: Unutilized

Comments: 4675 sq. ft., most recent use—vehicle maint. shop

Army

Tennessee

Land

Parcel No. 1

Property Number: 21200920003

Fort Campbell

Tract No. 13M-3

Montgomery TN 42223

Status: Excess

Comments: 6.89 acres/thick vegetation

Parcel No. 2

Property Number: 21200920004

Fort Campbell

Tract Nos.12M-16B & 13M-3

Montgomery TN 42223

Status: Excess

Comments: 3.41 acres/wooded

Parcel No. 3

Property Number: 21200920005

Fort Campbell

Tract No. 12M-4

Montgomery TN 42223

Status: Excess

Comments: 6.56 acre/wooded

Parcel No. 4

Property Number: 21200920006

Fort Campbell

Tract Nos 10M-22 &10M-23

Montgomery TN 42223

Status: Excess

Comments: 5.73 acres/wooded

Army

Tennessee

Land

Parcel No. 5

Property Number: 21200920007

Fort Campbell

Tract No. 10M-20

Montgomery TN 42223

Status: Excess

Comments: 3.86 acres/wooded

Parcel No. 7

Property Number: 21200920008

Fort Campbell

Tract No. 10M-10

Montgomery TN 42223

Status: Excess

Comments: 9.47 acres/wooded

Parcel No. 8

Property Number: 21200920009

Fort Campbell

Tract No. 8M-7

Montgomery TN 42223

Status: Excess

Comments: 15.13 acres/wooded

Parcel No. 6

Property Number: 21200940013

Fort Campbell

Hwy 79

Montgomery TN 42223

Status: Excess

Comments: 4.55 acres, wooded w/dirt road/fire break

Army

Texas

Building

Bldg. 7137, Fort Bliss

Property Number: 21199640564

El Paso Co: El Paso TX 79916

Status: Unutilized

Comments: 35,736 sq. ft., 3-story, most recent use—housing, off-site use only

Bldg. 92043

Property Number: 21200020206

Fort Hood

Ft. Hood Co: Bell TX 76544

Status: Unutilized

Comments: 450 sq. ft., most recent use—storage, off-site use only

Bldg. 92044

Property Number: 21200020207

Fort Hood

Ft. Hood Co: Bell TX 76544

Status: Unutilized

Comments: 1920 sq. ft., most recent use—admin., off-site use only

Bldg. 92045

Property Number: 21200020208

Fort Hood

Ft. Hood Co: Bell TX 76544

Status: Unutilized

Comments: 2108 sq. ft., most recent use—maint. off-site use only

Bldg. 56638

Property Number: 21200220151

Fort Hood

Ft. Hood Co: Bell TX 76544

Status: Unutilized

Comments: 1133 sq. ft., most recent use—shower, off-site use only

Army

Texas

Building

Bldgs. 56703, 56708

Property Number: 21200220152

Fort Hood

Ft. Hood Co: Bell TX 76544

Status: Unutilized

Comments: 1306 sq. ft., most recent use—shower, off-site use only

Bldg. 56758

Property Number: 21200220154

Fort Hood

Ft. Hood Co: Bell TX 76544

Status: Unutilized

Comments: 1133 sq. ft., most recent use—shower, off-site use only

Bldgs. P6220, P6222

Property Number: 21200330197

Fort Sam Houston

Camp Bullis

San Antonio Co: Bexar TX

Status: Unutilized

Comments: 384 sq. ft., most recent use—carport/storage, off-site use only

Bldgs. P6224, P6226

Property Number: 21200330198

Fort Sam Houston

Camp Bullis

San Antonio Co: Bexar TX

Status: Unutilized

Comments: 384 sq. ft., most recent use—carport/storage, off-site use only

Army

Texas

Building

Bldg. 92039

Property Number: 21200640101

Fort Hood

Ft. Hood Co: Bell TX 76544

Status: Excess

Comments: 80 sq. ft., most recent use—storage, off-site use only

Bldgs. 04281, 04283

Property Number: 21200720085

Fort Hood

Bell TX 76544

Status: Excess

Comments: 4000/8020 sq. ft., most recent use—storage shed off-site use only

Bldg. 04284

Property Number: 21200720086

Fort Hood

Bell TX 76544

Status: Excess

Comments: 800 sq. ft., presence of asbestos, most recent use—storage shed off-site use only

Bldg. 04285

Property Number: 21200720087

Fort Hood

Bell TX 76544

Status: Excess

Comments: 8000 sq. ft., most recent use—storage shed off-site use only

Bldg. 04286

Property Number: 21200720088

Fort Hood

Bell TX 76544

Status: Excess

Comments: 36,000 sq. ft., presence of asbestos, most recent use—storage shed off-site use only

Army

Texas

Building

Bldg. 04291

Property Number: 21200720089

Fort Hood

Bell TX 76544

Status: Excess

Comments: 6400 sq. ft., presence of asbestos, most recent use—storage shed off-site use only

Bldg. 4410

Property Number: 21200720090

Fort Hood

Bell TX 76544

Status: Excess

Comments: 12,956 sq. ft., presence of asbestos, most recent use—simulation center, off-site use only

Bldgs. 10031, 10032, 10033

Property Number: 21200720091

Fort Hood

Bell TX 76544

Status: Excess

Comments: 2578/3383 sq. ft., presence of asbestos, most recent use—admin., off-site use only

Bldg. 56435

Property Number: 21200720093

Fort Hood

Bell TX 76544

Status: Excess

Comments: 3441 sq. ft., presence of asbestos, most recent use—barracks, off-site use only

Bldg. 05708

Property Number: 21200720094

Fort Hood

Bell TX 76544

Status: Excess

Comments: 1344 sq. ft., most recent use—community center, off-site use only

Army

Texas

Building

Bldg. 93013

Property Number: 21200720099

Fort Hood

Bell TX 76544

Status: Excess

Comments: 800 sq. ft., most recent use—club, off-site use only

4 Bldgs.

Property Number: 21200810048

Fort Hood

Bell TX 76544

Location: 00229, 00230, 00231, 00232

Status: Unutilized

Comments: various sq. ft., presence of asbestos, most recent use—training aids center, off-site use only

Bldg. 00324

Property Number: 21200810049

Fort Hood

Bell TX 76544

Status: Unutilized

Comments: 13,319 sq. ft., most recent use—roller skating rink, off-site use only

Bldgs. 00710, 00739, 00741

Property Number: 21200810050

Fort Hood

Bell TX 76544

Status: Unutilized

Comments: various sq. ft., presence of asbestos, most recent use—repair shop, off-site use only

Army

Texas

Building

Bldg. 00713

Property Number: 21200810052

Fort Hood

Bell TX 76544

Status: Unutilized

Comments: 3200 sq. ft., presence of asbestos, most recent use—hdqts. bldg., off-site use only

Bldgs. 1938, 04229

Property Number: 21200810053

Fort Hood

Bell TX 76544

Status: Unutilized

Comments: 2736/9000 sq. ft., presence of asbestos, most recent use—admin., off-site use only

Bldgs. 02218, 02220

Property Number: 21200810054

Fort Hood

Bell TX 76544

Status: Unutilized

Comments: 7289/1456 sq. ft., presence of asbestos, most recent use—museum, off-site use only

Bldg. 0350

Property Number: 21200810055

Fort Hood

Bell TX 76544

Status: Unutilized

Comments: 28,290 sq. ft., presence of asbestos, most recent use—veh. maint. shop, off-site use only

Bldg. 04449

Property Number: 21200810056

Fort Hood

Bell TX 76544

Status: Unutilized

Comments: 3822 sq. ft., most recent use—police station, off-site use only

Army

Texas

Building

Bldg. 91077

Property Number: 21200810057

Fort Hood

Bell TX 76544

Status: Unutilized

Comments: 3200 sq. ft., presence of asbestos, most recent use—educational facility, off-site use only

Bldg. 1610

Property Number: 21200810059

Fort Bliss

El Paso TX 79916

Status: Excess

Comments: 11056 sq. ft., concrete/stucco, most recent use—gas station/store, off-site use only

Bldg. 1680

Property Number: 21200810060

Fort Bliss

El Paso TX 79916

Status: Excess

Comments: 3690 sq. ft., concrete/stucco, most recent use—restaurant, off-site use only

Bldg. 57005

Property Number: 21200840073

Fort Hood

Bell TX 76544

Status: Excess

Comments: 500 sq. ft., presence of asbestos, most recent use—water supply/treatment, off-site use only

Army

Texas

Land

1 acre

Property Number: 21200440075

Fort Sam Houston

San Antonio Co: Bexar TX 78234

Status: Excess

Comments: 1 acre, grassy area

Utah

Building

Bldg. 00001

Property Number: 21200740196

Borgstrom Hall USARC

Ogden UT 84401

Status: Excess

Comments: 16543 sq. ft., most recent use—training center, off-site use only

Bldg. 00002

Property Number: 21200740197

Borgstrom Hall USARC

Ogden UT 84401

Status: Excess

Comments: 3842 sq. ft., most recent use—vehicle maint. shop, off-site use only

Bldg. 00005

Property Number: 21200740198

Borgstrom Hall USARC

Ogden UT 84401

Status: Excess

Comments: 96 sq. ft., most recent use—storage, off-site use only

Army

Virginia

Building

Fort Story

Property Number: 21200720065

Ft. Story VA 23459

Status: Unutilized

Comments: 525 sq. ft., most recent use—power plant, off-site use only

Bldg. 01633

Property Number: 21200720076

Fort Eustis

Ft. Eustis VA 23604

Status: Unutilized

Comments: 240 sq. ft., most recent use—storage, off-site use only

Bldg. 02786

Property Number: 21200720084

Fort Eustis

Ft. Eustis VA 23604

Status: Unutilized

Comments: 1596 sq. ft., most recent use—admin., off-site use only

Bldg. P0838

Property Number: 21200830005

Fort Eustis

Ft. Eustis VA 23604

Status: Unutilized

Comments: 576 sq. ft., most recent use—rec shelter, off-site use only

Bldgs. 00031 & 00017

Property Number: 21201140039

8000 Jefferson Davis Hwy

Richmond Co: Chesterfield VA 23297

Status: Underutilized

Comments: off-site removal only; sq. ft. varies; bldgs. in good condition; current use: Admin./warehouse

Army

Washington

Building

Bldg. CO909, Fort Lewis

Property Number: 21199630205

Ft. Lewis Co: Pierce WA 98433-9500

Status: Unutilized

Comments: 1984 sq. ft., possible asbestos/lead paint, most recent use—admin., off-site use only

Bldg. 1164, Fort Lewis

Property Number: 21199630213

Ft. Lewis Co: Pierce WA 98433-9500

Status: Unutilized

Comments: 230 sq. ft., possible asbestos/lead paint, most recent use—storehouse, off-site use only

Bldg. 1307, Fort Lewis

Property Number: 21199630216

Ft. Lewis Co: Pierce WA 98433-9500

Status: Unutilized

Comments: 1092 sq. ft., possible asbestos/lead paint, most recent use—storage, off-site use only

Bldg. 1309, Fort Lewis

Property Number: 21199630217

Ft. Lewis Co: Pierce WA 98433-9500

Status: Unutilized

Comments: 1092 sq. ft., possible asbestos/lead paint, most recent use—storage, off-site use only

Bldg. 2167, Fort Lewis

Property Number: 21199630218

Ft. Lewis Co: Pierce WA 98433-9500

Status: Unutilized

Comments: 288 sq. ft., possible asbestos/lead paint, most recent use—warehouse, off-site use only

Army

Washington

Building

Bldg. 4078, Fort Lewis

Property Number: 21199630219

Ft. Lewis Co: Pierce WA 98433-9500

Status: Unutilized

Comments: 10200 sq. ft., needs rehab, possible asbestos/lead paint, most recent use—warehouse, off-site use only

Bldg. 9599, Fort Lewis

Property Number: 21199630220

Ft. Lewis Co: Pierce WA 98433-9500

Status: Unutilized

Comments: 12366 sq. ft., possible asbestos/lead paint, most recent use—warehouse, off-site use only

Bldg. A1404, Fort Lewis

Property Number: 21199640570

Ft. Lewis Co: Pierce WA 98433

Status: Unutilized

Comments: 557 sq. ft., needs rehab, most recent use—storage, off-site use only

Bldg. EO347

Property Number: 21199710156

Fort Lewis

Ft. Lewis Co: Pierce WA 98433

Status: Unutilized

Comments: 1800 sq. ft., possible asbestos/lead paint, most recent use—office, off-site use only

Bldg. B1008, Fort Lewis

Property Number: 21199720216

Ft. Lewis Co: Pierce WA 98433

Status: Unutilized

Comments: 7387 sq. ft., 2-story, needs rehab, possible asbestos/lead paint, most recent use—medical clinic, off-site use only

Army

Washington

Building

Bldgs. CO509, CO709, CO720

Property Number: 21199810372

Fort Lewis

Ft. Lewis Co: Pierce WA 98433

Status: Unutilized

Comments: 1984 sq. ft., possible asbestos/lead paint, needs rehab, most recent use—storage, off-site use only

Bldg. 5162

Property Number: 21199830419

Fort Lewis

Ft. Lewis Co: Pierce WA 98433

Status: Unutilized

Comments: 2360 sq. ft., needs repair, presence of asbestos/lead paint, most recent use—office, off-site use only

Bldg. 5224

Property Number: 21199830433

Fort Lewis

Ft. Lewis Co: Pierce WA 98433

Status: Unutilized

Comments: 2360 sq. ft., needs repair, presence of asbestos/lead paint, most recent use—educ. fac., off-site use only

Bldg. U001B

Property Number: 21199920237

Fort Lewis

Ft. Lewis Co: Pierce WA 98433

Status: Excess

Comments: 54 sq. ft., needs repair, presence of asbestos/lead paint, most recent use—control tower, off-site use only

Army

Washington

Building

Bldg. U001C

Property Number: 21199920238

Fort Lewis

Ft. Lewis Co: Pierce WA 98433

Status: Unutilized

Comments: 960 sq. ft., needs repair, presence of asbestos/lead paint, most recent use—supply, off-site use only

10 Bldgs.

Property Number: 21199920239

Fort Lewis

Ft. Lewis Co: Pierce WA 98433

Location: U002B, U002C, U005C, U015I, U016E, U019C, U022A, U028B, 0091A, U093C

Status: Excess

Comments: 600 sq. ft., needs repair, presence of asbestos/lead paint, most recent use—range house, off-site use only

6 Bldgs.

Property Number: 21199920240

Fort Lewis

Ft. Lewis Co: Pierce WA 98433

Location: U003A, U004B, U006C, U015B, U016B, U019B

Status: Unutilized

Comments: 54 sq. ft., needs repair, presence of asbestos/lead paint, most recent use—control tower, off-site use only

Bldg. U004D

Property Number: 21199920241

Fort Lewis

Ft. Lewis Co: Pierce WA 98433

Status: Unutilized

Comments: 960 sq. ft., needs repair, presence of asbestos/lead paint, most recent use—supply, off-site use only

Army

Washington

Building

Bldg. U005A

Property Number: 21199920242

Fort Lewis

Ft. Lewis Co: Pierce WA 98433

Status: Unutilized

Comments: 360 sq. ft., needs repair, presence of asbestos/lead paint, most recent use—control tower, off-site use only

7 Bldgs.

Property Number: 21199920245

Fort Lewis

Ft. Lewis Co: Pierce WA 98433

Location: U014A, U022B, U023A, U043B, U059B, U060A, U101A

Status: Excess

Comments: needs repair, presence of asbestos/lead paint, most recent use—of/tower/support, off-site use only

Bldg. U015J

Property Number: 21199920246

Fort Lewis

Ft. Lewis Co: Pierce WA 98433

Status: Excess

Comments: 144 sq. ft., needs repair, presence of asbestos/lead paint, most recent use—tower, off-site use only

Bldg. U018B

Property Number: 21199920247

Fort Lewis

Ft. Lewis Co: Pierce WA 98433

Status: Unutilized

Comments: 121 sq. ft., needs repair, presence of asbestos/lead paint, most recent use—range house, off-site use only

Army

Washington

Building

Bldg. U018C

Property Number: 21199920248

Fort Lewis

Ft. Lewis Co: Pierce WA 98433

Status: Unutilized

Comments: 48 sq. ft., needs repair, presence of asbestos/lead paint, off-site use only

Bldg. U024D

Property Number: 21199920250

Fort Lewis

Ft. Lewis Co: Pierce WA 98433

Status: Unutilized

Comments: 120 sq. ft., needs repair, presence of asbestos/lead paint, most recent use—ammo bldg., off-site use only

Bldg. U027A

Property Number: 21199920251

Fort Lewis

Ft. Lewis Co: Pierce WA

Status: Excess

Comments: 64 sq. ft., needs repair, presence of asbestos/lead paint, most recent use—tire house, off-site use only

Bldg. U031A

Property Number: 21199920253

Fort Lewis

Ft. Lewis Co: Pierce WA 98433

Status: Excess

Comments: 3456 sq. ft., needs repair, presence of asbestos/lead paint, most recent use—line shed, off-site use only

Army

Washington

Building

Bldg. U031C

Property Number: 21199920254

Fort Lewis

Ft. Lewis Co: Pierce WA 98433

Status: Unutilized

Comments: 32 sq. ft., needs repair, presence of asbestos/lead paint, off-site use only

Bldg. U040D

Property Number: 21199920255

Fort Lewis

Ft. Lewis Co: Pierce WA 98433

Status: Excess

Comments: 800 sq. ft., needs repair, presence of asbestos/lead paint, most recent use—range house, off-site use only

Bldgs. U052C, U052H

Property Number: 21199920256

Fort Lewis

Ft. Lewis Co: Pierce WA 98433

Status: Excess

Comments: various sq. ft., needs repair, presence of asbestos/lead paint, most recent use—range house, off-site use only

Bldgs. U035A, U035B

Property Number: 21199920257

Fort Lewis

Ft. Lewis Co: Pierce WA 98433

Status: Excess

Comments: 192 sq. ft., needs repair, presence of asbestos/lead paint, most recent use—shelter, off-site use only

Army

Washington

Building

Bldg. U035C

Property Number: 21199920258

Fort Lewis

Ft. Lewis Co: Pierce WA 98433

Status: Excess

Comments: 242 sq. ft., needs repair, presence of asbestos/lead paint, most recent use—range house, off-site use only

Bldg. U039A

Property Number: 21199920259

Fort Lewis

Ft. Lewis Co: Pierce WA 98433

Status: Excess

Comments: 36 sq. ft., needs repair, presence of asbestos/lead paint, most recent use—control tower, off-site use only

Bldg. U039B

Property Number: 21199920260

Fort Lewis

Ft. Lewis Co: Pierce WA 98433

Status: Excess

Comments: 1600 sq. ft., needs repair, presence of asbestos/lead paint, most recent use—grandstand/bleachers, off-site use only

Bldg. U039C

Property Number: 21199920261

Fort Lewis

Ft. Lewis Co: Pierce WA 98433

Status: Excess

Comments: 600 sq. ft., needs repair, presence of asbestos/lead paint, most recent use—support, off-site use only

Army

Washington

Building

Bldg. U043A

Property Number: 21199920262

Fort Lewis

Ft. Lewis Co: Pierce WA 98433

Status: Excess

Comments: 132 sq. ft., needs repair, presence of asbestos/lead paint, most recent use—range house, off-site use only

Bldg. U052A

Property Number: 21199920263

Fort Lewis

Ft. Lewis Co: Pierce WA 98433

Status: Excess

Comments: 69 sq. ft., needs repair, presence of asbestos/lead paint, most recent use—tower, offsite use only

Bldg. U052E

Property Number: 21199920264

Fort Lewis

Ft. Lewis Co: Pierce WA 98433

Status: Excess

Comments: 600 sq. ft., needs repair, presence of asbestos/lead paint, most recent use—storage, off-site use only

Bldg. U052G

Property Number: 21199920265

Fort Lewis

Ft. Lewis Co: Pierce WA 98433

Status: Excess

Comments: 1600 sq. ft., needs repair, presence of asbestos/lead paint, most recent use—shelter, off-site use only

Army

Washington

Building

3 Bldgs.

Property Number: 21199920266

Fort Lewis

Ft. Lewis Co: Pierce WA 98433

Location: U058A, U103A, U018A

Status: Excess

Comments: 36 sq. ft., needs repair, presence of asbestos/lead paint, most recent use—control tower, off-site use only

Bldg. U059A

Property Number: 21199920267

Fort Lewis

Ft. Lewis Co: Pierce WA 98433

Status: Excess

Comments: 16 sq. ft., needs repair, presence of asbestos/lead paint, most recent use—tower, offsite use only

Bldg. U093B

Property Number: 21199920268

Fort Lewis

Ft. Lewis Co: Pierce WA 98433

Status: Excess

Comments: 680 sq. ft., needs repair, presence of asbestos/lead paint, most recent use—range house, off-site use only

4 Bldgs.

Property Number: 21199920269

Fort Lewis

Ft. Lewis Co: Pierce WA 98433

Location: U101B, U101C, U507B, U557A

Status: Excess

Comments: 400 sq. ft., needs repair, presence of asbestos/lead paint, off-site use only

Army

Washington

Building

Bldg. U110B

Property Number: 21199920272

Fort Lewis

Ft. Lewis Co: Pierce WA 98433

Status: Excess

Comments: 138 sq. ft., needs repair, presence of asbestos/lead paint, most recent use—support, off-site use only

6 Bldgs.

Property Number: 21199920273

Fort Lewis

Ft. Lewis Co: Pierce WA 98433

Location: U111A, U015A, U024E, U052F, U109A, U110A

Status: Excess

Comments: 1000 sq. ft., needs repair, presence of asbestos/lead paint, most recent use—support/shelter/mess, off-site use only

Bldg. U112A

Property Number: 21199920274

Fort Lewis

Ft. Lewis Co: Pierce WA 98433

Status: Excess

Comments: 1600 sq. ft., needs repair, presence of asbestos/lead paint, most recent use—shelter, off-site use only

Bldg. U115A

Property Number: 21199920275

Fort Lewis

Ft. Lewis Co: Pierce WA 98433

Status: Excess

Comments: 36 sq. ft., needs repair, presence of asbestos/lead paint, most recent use—tower, offsite use only

Army

Washington

Building

Bldg. U507A

Property Number: 21199920276

Fort Lewis

Ft. Lewis Co: Pierce WA 98433

Status: Excess

Comments: 400 sq. ft., needs repair, presence of asbestos/lead paint, most recent use—support, off-site use only

Bldg. C0120

Property Number: 21199920281

Fort Lewis

Ft. Lewis Co: Pierce WA 98433

Status: Excess

Comments: 384 sq. ft., needs repair, presence of asbestos/lead paint, most recent use—scale house, off-site use only

Bldg. 01205

Property Number: 21199920290

Fort Lewis

Ft. Lewis Co: Pierce WA 98433

Status: Excess

Comments: 87 sq. ft., needs repair, presence of asbestos/lead paint, most recent use—storehouse, off-site use only

Bldg. 01259

Property Number: 21199920291

Fort Lewis

Ft. Lewis Co: Pierce WA 98433

Status: Excess

Comments: 16 sq. ft., needs repair, presence of asbestos/lead paint, most recent use—storage, offsite use only

Army

Washington

Building

Bldg. 01266

Property Number: 21199920292

Fort Lewis

Ft. Lewis Co: Pierce WA 98433

Status: Excess

Comments: 45 sq. ft., needs repair, presence of asbestos/lead paint, most recent use—shelter, offsite use only

Bldg. 1445

Property Number: 21199920294

Fort Lewis

Ft. Lewis Co: Pierce WA 98433

Status: Excess

Comments: 144 sq. ft., needs repair, presence of asbestos/lead paint, most recent use—generator bldg., off-site use only

Bldgs. 03091, 03099

Property Number: 21199920296

Fort Lewis

Ft. Lewis Co: Pierce WA 98433

Status: Excess

Comments: various sq. ft., needs repair, presence of asbestos/lead paint, most recent use—sentry station, off-site use only

Bldg. 4040

Property Number: 21199920298

Fort Lewis

Ft. Lewis Co: Pierce WA 98433

Status: Excess

Comments: 8326 sq. ft., needs repair, presence of asbestos/lead paint, most recent use—shed, offsite use only

Army

Washington

Building

Bldgs. 4072, 5104

Property Number: 21199920299

Fort Lewis

Ft. Lewis Co: Pierce WA 98433

Status: Excess

Comments: 24/36 sq. ft., needs repair, presence of asbestos/lead paint, off-site use only

Bldg. 4295

Property Number: 21199920300

Fort Lewis

Ft. Lewis Co: Pierce WA 98433

Status: Excess

Comments: 48 sq. ft., needs repair, presence of asbestos/lead paint, most recent use—storage, offsite use only

Bldg. 6191

Property Number: 21199920303

Fort Lewis

Ft. Lewis Co: Pierce WA 98433

Status: Excess

Comments: 3663 sq. ft., needs repair, presence of asbestos/lead paint, most recent use—exchange branch, off-site use only

Bldgs. 08076, 08080

Property Number: 21199920304

Fort Lewis

Ft. Lewis Co: Pierce WA 98433

Status: Excess

Comments: 3660/412 sq .ft., needs repair, presence of asbestos/lead paint, off-site use only

Army

Washington

Building

Bldg. 08093

Property Number: 21199920305

Fort Lewis

Ft. Lewis Co: Pierce WA 98433

Status: Excess

Comments: 289 sq. ft., needs repair, presence of asbestos/lead paint, most recent use—boat storage, off-site use only

Bldg. 8279

Property Number: 21199920306

Fort Lewis

Ft. Lewis Co: Pierce WA 98433

Status: Excess

Comments: 210 sq. ft., needs repair, presence of asbestos/lead paint, most recent use—fuel disp. fac., off-site use only

Bldgs. 8280, 8291

Property Number: 21199920307

Fort Lewis

Ft. Lewis Co: Pierce WA 98433

Status: Excess

Comments: 800/464 sq. ft., needs repair, presence of asbestos/lead paint, most recent use—storage, off-site use only

Bldg. 8956

Property Number: 21199920308

Fort Lewis

Ft. Lewis Co: Pierce WA 98433

Status: Excess

Comments: 100 sq. ft., needs repair, presence of asbestos/lead paint, most recent use—storage, off-site use only

Army

Washington

Building

Bldg. 9530

Property Number: 21199920309

Fort Lewis

Ft. Lewis Co: Pierce WA 98433

Status: Excess

Comments: 64 sq. ft., needs repair, presence of asbestos/lead paint, most recent use—sentry station, off-site use only

Bldg. 9574

Property Number: 21199920310

Fort Lewis

Ft. Lewis Co: Pierce WA 98433

Status: Excess

Comments: 6005 sq. ft., needs repair, presence of asbestos/lead paint, most recent use—veh. shop. off-site use only

Bldg. 9596 Property Number: 21199920311

Fort Lewis

Ft. Lewis Co: Pierce WA 98433

Status: Excess

Comments: 36 sq. ft., needs repair, presence of asbestos/lead paint, most recent use—gas station, off-site use only

COE

California

Building

4 Bldgs.

Property Number: 31200840001

OTH-B Radar Site

Tulelake CA 91634

Status: Unutilized

Comments: most recent use—communications/vehicle maint. off-site use only

Kentucky

Building

Green River Lock #3

Property Number: 31199010022

Rochester Co: Butler KY 42273

Location: SR 70 west from Morgantown, KY., approximately 7 miles to site.

Status: Unutilized

Comments: 980 sq. ft.; 2 story wood frame; two story residence; potential utilities; needs major rehab.

COE

Montana

Building

Bldg. 1

Property Number: 31200040010

Butte Natl Guard

Butte Co: Silverbow MT 59701

Status: Unutilized

Comments: 22799 sq. ft., presence of asbestos, most recent use—cold storage, off-site use only

Bldg. 2

Property Number: 31200040011

Butte Natl Guard

Butte Co: Silverbow MT 59701

Status: Unutilized

Comments: 3292 sq. ft., most recent use—cold storage, off-site use only

Bldg. 3

Property Number: 31200040012

Butte Natl Guard

Butte Co: Silverbow MT 59701

Status: Unutilized

Comments: 964 sq. ft., most recent use—cold storage, off-site use only

Bldg. 4

Property Number: 31200040013

Butte Natl Guard

Butte Co: Silverbow MT 59701

Status: Unutilized

Comments: 72 sq. ft., most recent use—cold storage, off-site use only

Bldg. 5

Property Number: 31200040014

Butte Natl Guard

Butte Co: Silverbow MT 59701

Status: Unutilized

Comments: 1286 sq. ft., most recent use—cold storage, off-site use only

COE

Ohio

Building

Barker Historic House

Property Number: 31199120018

Willow Island Locks and Dam

Newport Co: Washington OH 45768-9801

Location: Located at lock site, downstream of lock and dam structure

Status: Unutilized

Comments: 1600 sq. ft. bldg. with ½ acre of land, 2-story brick frame, needs rehab, on Natl Register of Historic Places, no utilities, off-site use only

Oklahoma

Land

Pine Creek Lake

Property Number: 31199010923

Section 27

(See County) Co: McCurtain OK

Status: Unutilized

Comments: 3 acres; no utilities; subject to right of way for Oklahoma State Highway 3.

Pennsylvania

Building

Mahoning Creek Reservoir

Property Number: 31199210008

New Bethlehem Co: Armstrong PA 16242

Status: Unutilized

Comments: 1015 sq. ft., 2 story brick residence, off-site use only

Dwelling Property Number: 31199620008

Lock 6, Allegheny River, 1260 River Rd.

Freeport Co: Armstrong PA 16229-2023

Status: Unutilized

Comments: 2652 sq. ft., 3-story brick house, in close proximity to Lock and Dam, available for interim use for nonresidential purposes

COE

Pennsylvania

Building

Dwelling

Property Number: 31199710009

Lock 4, Allegheny River

Natrona Co: Allegheny PA 15065-2609

Status: Unutilized

Comments: 1664 sq. ft., 2-story brick residence, needs repair, off-site use only

Dwelling #1

Property Number: 31199740002

Crooked Creek Lake

Ford City Co: Armstrong PA 16226-8815

Status: Excess

Comments: 2030 sq. ft., most recent use—residential, good condition, off-site use only

Dwelling #2

Property Number: 31199740003

Crooked Creek Lake

Ford City Co: Armstrong PA 16226-8815

Status: Excess

Comments: 3045 sq. ft., most recent use—residential, good condition, off-site use only

Govt Dwelling

Property Number: 31199740005

East Branch Lake

Wilcox Co: Elk PA 15870-9709

Status: Underutilized

Comments: approx. 5299 sq. ft., 1-story, most recent use—residence, off-site use only

Dwelling #1

Property Number: 31199740006

Loyalhanna Lake

Saltsburg Co: Westmoreland PA 15681-9302

Status: Excess

Comments: 1996 sq. ft., most recent use—residential, good condition, off-site use only

COE

Pennsylvania

Building

Dwelling #2

Property Number: 31199740007

Loyalhanna Lake

Saltsburg Co: Westmoreland PA 15681-9302

Status: Excess

Comments: 1996 sq. ft., most recent use—residential, good condition, off-site use only

Dwelling #2

Property Number: 31199740009

Lock 6, 1260 River Road

Freeport Co: Armstrong PA 16229-2023

Status: Excess

Comments: 2652 sq. ft., most recent use—residential, good condition, off-site use only

Residence A

Property Number: 31200410007

2045 Pohopoco Drive

Lehighton Co: Carbon PA 18235

Status: Unutilized

Comments: 1200 sq. ft., presence of asbestos, off-site use only

BEL-007

Property Number: 31201030001

2145 Pohopco Dr.

Lehighton PA 18235

Status: Unutilized

Comments: 1188 sq. ft., off-site use only

COE

Pennsylvania

Land

Mahoning Creek Lake

Property Number: 31199010018

New Bethlehem Co: Armstrong PA 16242-9603

Location:

Route 28 north to Belknap, Road #4

Status: Excess

Comments: 2.58 acres; steep and densely wooded.

Tracts 610, 611, 612

Property Number: 31199011001

Shenango River Lake

Sharpsville Co: Mercer PA 16150

Location: I-79 North, I-80 West, Exit Sharon. R18 North 4 miles, left on R518, right on Mercer Avenue.

Status: Excess

Comments: 24.09 acres; subject to flowage easement

Tracts L24, L26

Property Number: 31199011011

Crooked Creek Lake

Co: Armstrong PA 03051

Location: Left bank—55 miles downstream of dam.

Status: Unutilized

Comments: 7.59 acres; potential for utilities.

Portion of Tract L-21A

Property Number: 31199430012

Crooked Creek Lake, LR 03051

Ford City Co: Armstrong PA 16226

Status: Unutilized

Comments: Approximately 1.72 acres of undeveloped land, subject to gas rights

COE

South Dakota

Land

Portion/Tract A127

Property Number: 31200940001

Gavins Point Dam

Yankton SD

Status: Unutilized

Comments: 0.3018 acre, road right of way

Coast Guard

Connecticut

Building

USCG Academy's Visitor Ctr.

Property Number: 88201110001

31 Monhegan Ave.

New London CT 06320

Status: Underutilized

Comments: Off-site Removal Only, 2,300 sq. ft., most recent use: storage, HVAC system needs major repair

Washington

Building

Small Arms Firing Range

Property Number: 88201140003

322 Coast Guard Rd

Ilwaco WA

Status: Unutilized

Comments: off-site removal only; 2,640 sq. ft.; current use: firing range; lead around bld.; need repairs

Energy

Illinois

Building

Trailer 035

Property Number: 41201140002

Fermi Nat'l Accelerator Lab

Batavia IL 60510

Status: Excess

Comments: off-site removal only; 480 sq. ft.; current use: storage; needs major repairs

GSA

Arkansas

Building

99 Shore Court Structure

Property Number: 54201140010

99 Shore Court

Hot Springs AR 71901

Status: Surplus

Comments: off-site removal only; 1,845 sq. ft.; current use: residential

GSA Number: 7-I-AR-0415-13

132 Clubb Street Structure

Property Number: 54201140014

132 Clubb Street

Hot Springs AR 71901

Status: Surplus

Comments: Off-site removal only; 1,090 sq. ft.; current use: residential

GSA Number: 7-I-AR-0415-14

California

Land

Seal Beach RR Right of Way

Property Number: 54201140015

West 19th Street

Seal Beach CA 90740

Status: Surplus

Comments: 8,036.82 sq. ft.; current use: vacant lot

GSA Number: 9-N-CA-1508-AF

Seal Beach RR Right of Way

Property Number: 54201140016

East 17th Street

Seal Beach CA 90740

Status: Surplus

Comments: 9,713.88 sq. ft.; current use: private home

GSA Number: 9-N-CA-1508-AB

GSA

California

Land

Seal Beach RR Right of Way

Property Number: 54201140017

East of 16th Street

Seal Beach CA 90740

Status: Surplus

Comments: 6,834.56 sq. ft.; current use: vacant

GSA Number: 9-N-CA-1508-AG

Seal Beach RR Right of Way

Property Number: 54201140018

West of Seal Beach Blvd.

Seal Beach CA 90740

Status: Surplus

Comments: 10,493.60 sq. ft.; current use: vacant lot

GSA Number: 9-N-CA-1508-AA

Illinois

Land

FAA Middle Marker Site

Property Number: 54201140008

467 37th Ave

St. Charles IL 60174

Status: Excess

Comments: Zoning law/bldg. code prohibits construction; 0.135 acres; current use: FAA communications tower

GSA Number: 1-U-IL-798

GSA

Maine

Building

Columbia falls Radar Site

Property Number: 54201140001

Tibbetstown Road

Columbia Falls ME 04623

Location:

Buildings 1, 2, 3, and 4

Status: Excess

Comments: Four bldgs. totaling 20,375 sq.ft. each one-story; current use: varies among properties

GSA Number: 1-D-ME-0687

Michigan

Building

Beaver Island High Level Site

Property Number: 54201140002

South End Road

Beaver Island MI 49782

Status: Excess

Comments: 89 sq. ft; current use: storage; non-friable asbestos and lead base paint present; currently under license to the CCE Central Dispatch Authority

GSA Number: 1-X-MI-664B

Nevada

Land

RBG Water Project Site

Property Number: 54201140004

Bureau of Reclamation

Henderson NV 89011

Status: Surplus

Comments: water easement (will not impact conveyance); 22±acres; current use: water sludge disposal site; lead from shotgun shells on <1 acre.

GSA Number: 9-I-AZ-0562

GSA

North Dakota

Land

Vacant Land of MSR Site

Property Number: 54201130009

Stanley Mickelsen

Nekoma ND

Status: Surplus

Comments: 20.2 acres; recent use: unknown

GSA Number: 7-D-ND-0499

Pennsylvania

Land

Marienville Lot

Property Number: 54201140005

USDA Forest Service

Marienville PA

Status: Excess

Comments: 2.42 acres; current use: unknown

GSA Number: 4-A-PA-807AD

Rhode Island

Building

FDA Davisville Site

Property Number: 54201130008

113 Bruce Boyer Street

North Kingstown RI 02852

Status: Excess

Comments: 4,100 sq. ft.; recent use: storage; property currently has no heating (all repairs is the responsibility of owner)

GSA Number: 1-F-RI-0520

GSA

South Carolina

Land

Marine Corps Air Station

Property Number: 54201140009

3481 TRASK Parkway

Beaufort SC 29904

Status: Excess

Comments: 18,987.60 sq. ft. (.44 acres); physical features: swamp, periodic flooding, 5 ft. off of main road

GSA Number: 4-N-SC-0608AA

South Dakota

Building

Main House

Property Number: 54201130011

Lady C Ranch Rd.

Hot Springs SD 57747

Status: Surplus

Comments: Off-site removal only; The property is a 2-story structure with 1,024 sq. ft. per floor for a total of 2,048 sq. ft.; structure type: Log Cabin; recent use: residential

GSA Number: 7-A-0523-3-AE

Main Garage

Property Number: 54201130012

Lady C Ranch Rd.

Hot Springs SD 57747

Status: Surplus

Comments: Off-site removal only; 567 sq. ft.; structure type: Log Frame; recent use: vehicle storage

GSA Number: 7-A-SD-0523-3-AF

Metal Machine/Work Bldg.

Property Number: 54201130013

Lady C Ranch Rd.

Hot Springs SD 57747

Status: Surplus

Comments: Off-site removal only; 3,280 sq. ft.; structure type: Post/Pole w/Metal Siding; recent use: utility shed

GSA Number: 7-A-SD-0523-3-AG

GSA

South Dakota

Building

Mobile Home

Property Number: 54201130014

Lady C Ranch Rd.

Hot Springs SD 57477

Status: Surplus

Comments: Off-site removal only; 1,152 sq. ft.; structure type: manufactured home/double wide; recent use: residential

GSA Number: 7-A-0523-3-AH

Mobile Home Garage

Property Number: 54201130015

Lady C Ranch Rd.

Hot Springs SD 57747

Status: Surplus

Comments: Off-site removal only; 729 sq. ft.; structure type: Post/Pole construction w/metal side; recent use: storage

GSA Number: 7-A-SD-0523-3-AI

Washington

Building

Ran West Bunkhouse

Property Number: 54201140007

418 Sikverbrook Rd.

Randle WA 98377

Status: Excess

Comments: Double wide trailer for off-site removal only; 960 sq. ft.; current use: bunkhouse

GSA Number: 9-A-WA-1258

Interior

Oklahoma

Land

Tract No. 346

Property Number: 61201140009

Bureau of Reclamation

N of Altus OK

Status: Excess

Comments: 1.45 acres; current use: canal

Navy

Alabama

Building

Single Family House

Property Number: 77201110014

NOLF

Evergreen Co: Coneceh AL 36401

Status: Excess

Comments: Off-site removal only, 2,500 sq. ft., recent use: residential, possibility of asbestos and lead-based paint

Maryland

Building

13 Bldgs.

Property Number: 77201140004

Naval Support Facility

Carderock MD

Location: 008, 030, 111, 112, 113, 117, 121, 125, 126, 128, 129, 159, 196

Status: Excess

Comments: Off-site removal only; sq. ft. varies; current use: varies; buildings in fair condition—need repairs

4 Bldgs.

Property Number: 77201140016

Naval Support Activity S. Potomac

Indian Head MD 20640

Location: 696B, 745, 827, 945

Status: Excess

Comments: Off-site removal; need inspections for explosive contaminations; need repairs; possible lead based paint and asbestos; possible trigger disturbance of protected species and impact to coastal resources

VA

Alabama

Land

VA Medical Center

Property Number: 97199010053

VAMC

Tuskegee Co: Macon AL 36083

Status: Underutilized

Comments: 40 acres, buffer to VA Medical Center, potential utilities, undeveloped.

Colorado

Building

Bldg. 2

Property Number: 97200430001

VAMC

2121 North Avenue

Grand Junction Co: Mesa CO 81501

Status: Unutilized

Comments: 3298 sq. ft., needs major rehab, presence of asbestos/lead paint

Bldg. 3

Property Number: 97200430002

VAMC

2121 North Avenue

Grand Junction Co: Mesa CO 81501

Status: Unutilized

Comments: 7275 sq. ft., needs major rehab, presence of asbestos/lead paint

VA

Indiana

Building

Bldg. 105, VAMC

Property Number: 97199230006

East 38th Street

Marion Co: Grant IN 46952

Status: Excess

Comments: 310 sq. ft., 1 story stone structure, no sanitary or heating facilities, Natl Register of Historic Places

Bldg. 10

Property Number: 97199810002

VA Northern Indiana Health Care System

Marion Campus, 1700 East 38th Street

Marion Co: Grant IN 46953

Status: Underutilized

Comments: 16,361 sq. ft., presence of asbestos, most recent use—psychiatric ward, National Register of Historic Places

Bldg. 11

Property Number: 97199810003

VA Northern Indiana Health Care System

Marion Campus, 1700 East 38th Street

Marion Co: Grant IN 46953

Status: Underutilized

Comments: 16,361 sq. ft., presence of asbestos, most recent use—psychiatric ward, National Register of Historic Places

Bldg. 18

Property Number: 97199810004

VA Northern Indiana Health Care System

Marion Campus, 1700 East 38th Street

Marion Co: Grant IN 46953

Status: Underutilized

Comments: 13,802 sq. ft., presence of asbestos, most recent use—psychiatric ward, National Register of Historic Places

VA

Indiana

Building

Bldg. 25

Property Number: 97199810005

VA Northern Indiana Health Care System

Marion Campus, 1700 East 38th Street

Marion Co: Grant IN 46953

Status: Unutilized

Comments: 32,892 sq. ft., presence of asbestos, most recent use—psychiatric ward, National Register of Historic Places

Bldg. 1

Property Number: 97200310001

N. Indiana Health Care System

Marion Co: Grant IN 46952

Status: Unutilized

Comments: 20,287 sq. ft., needs extensive repairs, presence of asbestos, most recent use—patient ward

Bldg. 3

Property Number: 97200310002

N. Indiana Health Care System

Marion Co: Grant IN 46952

Status: Unutilized

Comments: 20,550 sq. ft., needs extensive repairs, presence of asbestos, most recent use—patient ward

Bldg. 4

Property Number: 97200310003

N. Indiana Health Care System

Marion Co: Grant IN 46952

Status: Unutilized

Comments: 20,550 sq .ft., needs extensive repairs, presence of asbestos, most recent use—patient ward

VA

Indiana

Building

Bldg. 13

Property Number: 97200310004

N. Indiana Health Care System

Marion Co: Grant IN 46952

Status: Unutilized

Comments: 8971 sq. ft., needs extensive repairs, presence of asbestos, most recent use—office

Bldg. 42

Property Number: 97200310007

N. Indiana Health Care System

Marion Co: Grant IN 46952

Status: Unutilized

Comments: 5025 sq. ft., needs extensive repairs, presence of asbestos, most recent use—office

Bldg. 60

Property Number: 97200310008

N. Indiana Health Care System

Marion Co: Grant IN 46952

Status: Unutilized

Comments: 18,126 sq. ft., needs extensive repairs, presence of asbestos, most recent use—office

Bldg. 122

Property Number: 97200310009

N. Indiana Health Care System

Marion Co: Grant IN 46952

Status: Unutilized

Comments: 37,135 sq. ft., needs extensive repairs, presence of asbestos, most recent use—dining hall/kitchen

VA

Iowa

Land

40.66 acres

Property Number: 97199740002

VA Medical Center

1515 West Pleasant St.

Knoxville Co: Marion IA 50138

Status: Unutilized

Comments: golf course, easement requirements

Wisconsin

Land

VA Medical Center

Property Number: 97199010054

County Highway E

Tomah Co: Monroe WI 54660

Status: Underutilized

Comments: 12.4 acres, serves as buffer between center and private property, no utilities.

TITLE V PROPERTIES REPORTED IN YEAR 2011 WHICH ARE SUITABLE AND UNAVAILABLE

Air Force

Colorado

Building

Bldg. 810—Trailer

Property Number: 18201110005

270 South Aspen Street

Buckley AFB

Aurora Co: Arapahoe CO

Status: Unutilized

Reason: Disposal in progress

Bldg 811—Crews

Trailer Property Number: 18201110008

272 South Aspen Street

Buckley AFB

Aurora Co: Arapahoe CO 80011

Status: Unutilized

Reason: Disposal in progress

Land

Outer Marker Annex

Property Number: 18200940001

Whiteman AFB

Knob Noster MO 65336

Status: Unutilized

Reason: Disposal in progress

Annex No. 3

Property Number: 18201020001

Whiteman AFB

Knob Noster MO 65336

Status: Underutilized

Reason: Disposal in progress

South Dakota

Land

Tract 133

Property Number: 18200310004

Ellsworth AFB

Box Elder Co: Pennington SD 57706

Status: Unutilized

Reason: Special Legislation

Tract 67

Property Number: 18200310005

Ellsworth AFB

Box Elder Co: Pennington SD 57706

Status: Unutilized

Reason: mission purpose

Air Force

Washington

Building

Bldg. 404/Geiger Heights

Property Number: 18200420002

Fairchild AFB

Spokane WA 99224

Status: Unutilized

Reason: mission effort

11 Bldgs./Geiger Heights

Property Number: 18200420003

Fairchild AFB

Spokane WA 99224

Status: Unutilized

Reason: mission effort

Bldg. 297/Geiger Heights

Property Number: 18200420004

Fairchild AFB

Spokane WA 99224

Status: Unutilized

Reason: mission effort

9 Bldgs./Geiger Heights

Property Number: 18200420005

Fairchild AFB

Spokane WA 99224

Status: Unutilized

Reason: mission effort

22 Bldgs./Geiger Heights

Property Number: 18200420006

Fairchild AFB

Spokane WA 99224

Status: Unutilized

Reason: mission effort

Air Force

New York

Building

Bldg. 302

Property Number: 18200340026

Rome Lab

Rome Co: Oneida NY 13441

Status: Unutilized

Reason: occupied

Washington

51 Bldgs./Geiger Heights

Property Number: 18200420007

Fairchild AFB

Spokane WA 99224

Status: Unutilized

Reason: mission effort

Bldg. 402/Geiger Heights

Property Number: 18200420008

Fairchild AFB

Spokane WA 99224

Status: Unutilized

Reason: mission effort

5 Bldgs./Geiger Heights

Property Number: 18200420009

Fairchild AFB

222, 224, 271, 295, 260

Spokane WA 99224

Status: Unutilized

Reason: mission effort

5 Bldgs./Geiger Heights

Property Number: 18200420010

Fairchild AFB

102, 183, 118, 136, 113

Spokane WA 99224

Status: Unutilized

Reason: mission effort

Army

Alabama

Building

Bldg. 01433

Property Number: 21200220098

Fort Rucker

Ft. Rucker Co: Dale AL 36362

Status: Excess

Reason: being utilized

Bldg. 30105

Property Number: 21200510052

Fort Rucker

Ft. Rucker Co: Dale AL 36362

Status: Excess

Reason: occupied

Bldg. 40115

Property Number: 21200510053

Fort Rucker

Ft. Rucker Co: Dale AL 36362

Status: Excess

Reason: occupied

Bldg. 25303

Property Number: 21200520074

Fort Rucker

Dale AL 36362

Status: Excess

Reason: occupied

Bldg. 25304

Property Number: 21200520075

Fort Rucker

Dale AL 36362

Status: Excess

Reason: occupied

Army

Arizona

Building

Bldg. 22529

Property Number: 21200520077

Fort Huachuca

Cochise AZ 85613-7010

Status: Excess

Reason: occupied

Bldg. 22541

Property Number: 21200520078

Fort Huachuca

Cochise AZ 85613-7010

Status: Excess

Reason: occupied

Bldg. 30020

Property Number: 21200520079

Fort Huachuca

Cochise AZ 85613-7010

Status: Excess

Reason: occupied

Bldg. 30021

Property Number: 21200520080

Fort Huachuca

Cochise AZ 85613-7010

Status: Excess

Reason: occupied

Bldg. 22040

Property Number: 21200540076

Fort Huachuca

Cochise AZ 85613

Status: Excess

Reason: occupied

Army

Arizona

Building

Bldg. 22540

Property Number: 21200620067

Fort Huachuca

Cochise AZ 85613-7010

Status: Excess

Reason: occupied

Colorado

Building

Bldg. S6285

Property Number: 21200420176

Fort Carson

Ft. Carson Co: El Paso CO 80913

Status: Unutilized

Reason: in use

Georgia

Building

Bldg. T201

Property Number: 21200420002

Hunter Army Airfield

Garrison Co: Chatham GA 31409

Status: Excess

Reason: in use

Bldg. T234

Property Number: 21200420008

Hunter Army Airfield

Garrison Co: Chatham GA 31409

Status: Excess

Reason: in use

Army

Georgia

Building

Bldg. T702

Property Number: 21200420010

Hunter Army Airfield

Garrison Co: Chatham GA 31409

Status: Excess

Reason: in use

Bldg. T703

Property Number: 21200420011

Hunter Army Airfield

Garrison Co: Chatham GA 31409

Status: Excess

Reason: in use

Bldg. T704

Property Number: 21200420012

Hunter Army Airfield

Garrison Co: Chatham GA 31409

Status: Excess

Reason: in use

Bldg. P813

Property Number: 21200420013

Hunter Army Airfield

Garrison Co: Chatham GA 31409

Status: Excess

Reason: in use

Bldgs. S843, S844, S845

Property Number: 21200420014

Hunter Army Airfield

Garrison Co: Chatham GA 31409

Status: Excess

Reason: in use

Army

Georgia

Building

Bldg. P925

Property Number: 21200420015

Hunter Army Airfield

Garrison Co: Chatham GA 31409

Status: Excess

Reason: in use

Bldg. P1277

Property Number: 21200420024

Hunter Army Airfield

Garrison Co: Chatham GA 31409

Status: Excess

Reason: in use

Bldg. T1412

Property Number: 21200420025

Hunter Army Airfield

Garrison Co: Chatham GA 31409

Status: Excess

Reason: in use

Bldg. 8658

Property Number: 21200420029

Hunter Army Airfield

Garrison Co: Chatham GA 31409

Status: Excess

Reason: in use

Bldg. 8659

Property Number: 21200420030

Hunter Army Airfield

Garrison Co: Chatham GA 31409

Status: Excess

Reason: in use

Army

Georgia

Building

Bldgs. 8675, 8676

Property Number: 21200420031

Hunter Army Airfield

Garrison Co: Chatham GA 31409

Status: Excess

Reason: in use

Bldg. 5978

Property Number: 21200420038

Fort Benning

Ft. Benning Co: Chattachoochee GA 31905

Status: Excess

Reason: in use

Bldg. 5993

Property Number: 21200420041

Fort Benning

Ft. Benning Co: Chattachoochee GA 31905

Status: Excess

Reason: in use

Bldg. 5994

Property Number: 21200420042

Fort Benning

Ft. Benning Co: Chattachoochee GA 31905

Status: Excess

Reason: in use

Bldg. 5995

Property Number: 21200420043

Fort Benning

Ft. Benning Co: Chattachoochee GA 31905

Status: Excess

Reason: in use

Army

Georgia

Building

Bldg. T01

Property Number: 21200420181

Fort Stewart

Ft. Stewart Co: Liberty GA 31314

Status: Excess

Reason: in use

Bldg. T04

Property Number: 21200420182

Fort Stewart

Ft. Stewart Co: Liberty GA 31314

Status: Excess

Reason: in use

Bldg. T05

Property Number: 21200420183

Fort Stewart

Ft. Stewart Co: Liberty GA 31314

Status: Excess

Reason: in use

Bldg. T06

Property Number: 21200420184

Fort Stewart

Ft. Stewart Co: Liberty GA 31314

Status: Excess

Reason: in use

Bldg. T55

Property Number: 21200420187

Fort Stewart

Ft. Stewart Co: Liberty GA 31314

Status: Excess

Reason: in use

Army

Georgia

Building

Bldg. T85

Property Number: 21200420188

Fort Stewart

Ft. Stewart Co: Liberty GA 31314

Status: Excess

Reason: in use

Bldg. T131

Property Number: 21200420189

Fort Stewart

Ft. Stewart Co: Liberty GA 31314

Status: Excess

Reason: in use

Bldg. T132

Property Number: 21200420190

Fort Stewart

Ft. Stewart Co: Liberty GA 31314

Status: Excess

Reason: in use

Bldg. T157

Property Number: 21200420191

Fort Stewart

Ft. Stewart Co: Liberty GA 31314

Status: Excess

Reason: in use

Bldg. 01002

Property Number: 21200420197

Fort Stewart

Ft. Stewart Co: Liberty GA 31314

Status: Excess

Reason: in use

Army

Georgia

Building

Bldg. 01003

Property Number: 21200420198

Fort Stewart

Ft. Stewart Co: Liberty GA 31314

Status: Excess

Reason: in use

Bldg. 19101

Property Number: 21200420215

Fort Stewart

Ft. Stewart Co: Liberty GA 31314

Status: Excess

Reason: in use

Bldg. 19102

Property Number: 21200420216

Fort Stewart

Ft. Stewart Co: Liberty GA 31314

Status: Excess

Reason: in use

Bldg. T19111

Property Number: 21200420217

Fort Stewart

Ft. Stewart Co: Liberty GA 31314

Status: Excess

Reason: in use

Bldg. 19112

Property Number: 21200420218

Fort Stewart

Ft. Stewart Co: Liberty GA 31314

Status: Excess

Reason: in use

Army

Georgia

Building

Bldg. 19113

Property Number: 21200420219

Fort Stewart

Ft. Stewart Co: Liberty GA 31314

Status: Excess

Reason: in use

Bldg. T19201

Property Number: 21200420220

Fort Stewart

Ft. Stewart Co: Liberty GA 31314

Status: Excess

Reason: in use

Bldg. 19202

Property Number: 21200420221

Fort Stewart

Ft. Stewart Co: Liberty GA 31314

Status: Excess

Reason: in use

Bldg. 19204 thru 19207

Property Number: 21200420222

Fort Stewart

Ft. Stewart Co: Liberty GA 31314

Status: Excess

Reason: in use

Bldgs. 19208 thru 19211

Property Number: 21200420223

Fort Stewart

Ft. Stewart Co: Liberty GA 31314

Status: Excess

Reason: in use

Army

Georgia

Building

Bldg. 19212

Property Number: 21200420224

Fort Stewart

Ft. Stewart Co: Liberty GA 31314

Status: Excess

Reason: in use

Bldg. 19213

Property Number: 21200420225

Fort Stewart

Ft. Stewart Co: Liberty GA 31314

Status: Excess

Reason: in use

Bldg. 19214

Property Number: 21200420226

Fort Stewart

Ft. Stewart Co: Liberty GA 31314

Status: Excess

Reason: in use

Bldg. 19215

Property Number: 21200420227

Fort Stewart

Ft. Stewart Co: Liberty GA 31314

Status: Excess

Reason: in use

Bldg. 19216

Property Number: 21200420228

Fort Stewart

Ft. Stewart Co: Liberty GA 31314

Status: Excess

Reason: in use

Army

Georgia

Building

Bldg. 19217

Property Number: 21200420229

Fort Stewart

Ft. Stewart Co: Liberty GA 31314

Status: Excess

Reason: in use

Bldg. 19218

Property Number: 21200420230

Fort Stewart

Ft. Stewart Co: Liberty GA 31314

Status: Excess

Reason: in use

Bldgs. 19219, 19220

Property Number: 21200420231

Fort Stewart

Ft. Stewart Co: Liberty GA 31314

Status: Excess

Reason: in use

Bldg. 19223

Property Number: 21200420232

Fort Stewart

Ft. Stewart Co: Liberty GA 31314

Status: Excess

Reason: in use

Bldg. 19225

Property Number: 21200420233

Fort Stewart

Ft. Stewart Co: Liberty GA 31314

Status: Excess

Reason: in use

Army

Georgia

Building

Bldg. 19226

Property Number: 21200420234

Fort Stewart

Ft. Stewart Co: Liberty GA 31314

Status: Excess

Reason: in use

Bldg. T19228

Property Number: 21200420235

Fort Stewart

Ft. Stewart Co: Liberty GA 31314

Status: Excess

Reason: in use

Bldg. 19229

Property Number: 21200420236

Fort Stewart

Ft. Stewart Co: Liberty GA 31314

Status: Excess

Reason: in use

Bldg. 19232

Property Number: 21200420237

Fort Stewart

Ft. Stewart Co: Liberty GA 31314

Status: Excess

Reason: in use

Bldg. 19233

Property Number: 21200420238

Fort Stewart

Ft. Stewart Co: Liberty GA 31314

Status: Excess

Reason: in use

Army

Georgia

Building

Bldg. 19236

Property Number: 21200420239

Fort Stewart

Ft. Stewart Co: Liberty GA 31314

Status: Excess

Reason: in use

Bldg. 19238

Property Number: 21200420240

Fort Stewart

Ft. Stewart Co: Liberty GA 31314

Status: Excess

Reason: in use

Bldg. 01674

Property Number: 21200510056

Fort Benning

Ft. Benning Co: Chattachoochee GA 31905

Status: Unutilized

Reason: occupied

Bldg. 01675

Property Number: 21200510057

Fort Benning

Ft. Benning Co: Chattachoochee GA 31905

Status: Unutilized

Reason: occupied

Bldg. 01676

Property Number: 21200510058

Fort Benning

Ft. Benning Co: Chattachoochee GA 31905

Status: Unutilized

Reason: occupied

Army

Georgia

Building

Bldg. 01677

Property Number: 21200510059

Fort Benning

Ft. Benning GA 31905

Status: Unutilized

Reason: occupied

Bldg. 01678

Property Number: 21200510060

Fort Benning

Ft. Benning Co: Chattachoochee GA 31905

Status: Unutilized

Reason: occupied

Bldg. 00051

Property Number: 21200520087

Fort Stewart

Liberty GA 31314

Status: Excess

Reason: occupied

Bldg. 00052

Property Number: 21200520088

Fort Stewart

Liberty GA 31314

Status: Excess

Reason: occupied

Bldg. 00053

Property Number: 21200520089

Fort Stewart

Liberty GA 31314

Status: Excess

Reason: occupied

Army

Georgia

Building

Bldg. 00054

Property Number: 21200520090

Fort Stewart

Liberty GA 31314

Status: Excess

Reason: occupied

Bldg. 01243

Property Number: 21200610040

Hunter Army Airfield

Savannah Co: Chatham GA 31409

Status: Excess

Reason: occupied

Bldg. 01244

Property Number: 21200610041

Hunter Army Airfield

Savannah Co: Chatham GA 31409

Status: Excess

Reason: occupied

Bldg. 01318

Property Number: 21200610042

Hunter Army Airfield

Savannah Co: Chatham GA 31409

Status: Excess

Reason: occupied

Bldg. 00612

Property Number: 21200610043

Fort Stewart

Liberty GA 31314

Status: Excess

Reason: occupied

Army

Georgia

Building

Bldg. 00614

Property Number: 21200610044

Fort Stewart

Liberty GA 31314

Status: Excess

Reason: occupied

Bldg. 00618

Property Number: 21200610045

Fort Stewart

Liberty GA 31314

Status: Excess

Reason: occupied

Bldg. 00628

Property Number: 21200610046

Fort Stewart

Liberty GA 31314

Status: Excess

Reason: occupied

Bldg. 01079

Property Number: 21200610047

Fort Stewart

Liberty GA 31314

Status: Excess

Reason: occupied

Bldg. 07901

Property Number: 21200610049

Fort Stewart

Liberty GA 31314

Status: Excess

Reason: occupied

Army

Georgia

Building

Bldg. 08031

Property Number: 21200610050

Fort Stewart

Liberty GA 31314

Status: Excess

Reason: occupied

Bldg. 08081

Property Number: 21200610052

Fort Stewart

Liberty GA 31314

Status: Excess

Reason: occupied

Bldg. 08252

Property Number: 21200610053

Fort Stewart

Liberty GA 31314

Status: Excess

Reason: occupied

Louisiana

Building

Bldg. T401

Property Number: 21200540084

Fort Polk

Ft. Polk LA 71459

Status: Unutilized

Reason: occupied

Bldgs. T406, T407, T411

Property Number: 21200540085

Fort Polk

Ft. Polk LA 71459

Status: Unutilized

Reason: occupied

Army

Louisiana

Building

Bldg. T412

Property Number: 21200540086

Fort Polk

Ft. Polk LA 71459

Status: Unutilized

Reason: occupied

Bldgs. T414, T421

Property Number: 21200540087

Fort Polk

Ft. Polk LA 71459

Status: Unutilized

Reason: occupied

Maryland

Building

Bldg. 8608

Property Number: 21200410099

Fort George G. Meade

Ft. Meade MD 20755-5115

Status: Unutilized

Reason: occupied

Bldg. 8612

Property Number: 21200410101

Fort George G. Meade

Ft. Meade MD 20755-5115

Status: Unutilized

Reason: occupied

Bldg. 0001A

Property Number: 21200520114

Federal Support Center

Olney Co: Montgomery MD 20882

Status: Unutilized

Reason: occupied

Army

Maryland

Building

Bldg. 0001C

Property Number: 21200520115

Federal Support Center

Olney Co: Montgomery MD 20882

Status: Unutilized

Reason: occupied

Bldgs. 00032, 00H14, 00H24

Property Number: 21200520116

Federal Support Center

Olney Co: Montgomery MD 20882

Status: Unutilized

Reason: occupied

Bldgs. 00034, 00H016

Property Number: 21200520117

Federal Support Center

Olney Co: Montgomery MD 20882

Status: Unutilized

Reason: occupied

Bldgs. 00H10, 00H12

Property Number: 21200520118

Federal Support Center

Olney Co: Montgomery MD 20882

Status: Unutilized

Reason: occupied

Army

Michigan

Building

Bldg. 00001

Property Number: 21200510066

Sheridan Hall USARC

501 Euclid Avenue

Helena Co: Lewis MI 59601-2865

Status: Unutilized

Reason: Federal interest

Missouri

Building

Bldg. 1230

Property Number: 21200340087

Fort Leonard Wood

Ft. Leonard Wood Co: Pulaski MO 65743-8944

Status: Unutilized

Reason: occupied

Bldg. 1621

Property Number: 21200340088

Fort Leonard Wood

Ft. Leonard Wood Co: Pulaski MO 65743-8944

Status: Unutilized

Reason: occupied

Bldg. 5760

Property Number: 21200410102

Fort Leonard Wood

Ft. Leonard Wood Co: Pulaski MO 65743-8944

Status: Unutilized

Reason: occupied

Bldg. 5762

Property Number: 21200410103

Fort Leonard Wood

Ft. Leonard Wood Co: Pulaski MO 65743-8944

Status: Unutilized

Reason: occupied

Army

Missouri

Building

Bldg. 5763

Property Number: 21200410104

Fort Leonard Wood

Ft. Leonard Wood Co: Pulaski MO 65743-8944

Status: Unutilized

Reason: occupied

Army

Missouri

Building

Bldg. 5765

Property Number: 21200410105

Fort Leonard Wood

Ft. Leonard Wood Co: Pulaski MO 65743-8944

Status: Unutilized

Reason: occupied

Bldg. 5760

Property Number: 21200420059

Fort Leonard Wood

Ft. Leonard Wood Co: Pulaski MO 65743-8944

Status: Unutilized

Reason: in use

Bldg. 5762

Property Number: 21200420060

Fort Leonard Wood

Ft. Leonard Wood Co: Pulaski MO 65743-8944

Status: Unutilized

Reason: in use

Bldg. 5763

Property Number: 21200420061

Fort Leonard Wood

Ft. Leonard Wood Co: Pulaski MO 65743-8944

Status: Unutilized

Reason: in use

Army

Missouri

Building

Bldg. 5765

Property Number: 21200420062

Fort Leonard Wood

Ft. Leonard Wood Co: Pulaski MO 65743-8944

Status: Unutilized

Reason: in use

Bldg. 00467

Property Number: 21200530085

Fort Leonard Wood

Ft. Leonard Wood Co: Pulaski MO 65743

Status: Unutilized

Reason: occupied

New York

Building

Bldgs. 1511-1518

Property Number: 21200320160

U.S. Military Academy Training Area

Highlands Co: Orange NY 10996

Status: Unutilized

Reason: occupied

Bldgs. 1523-1526

Property Number: 21200320161

U.S. Military Academy Training Area

Highlands Co: Orange NY 10996

Status: Unutilized

Reason: occupied

Bldgs. 1704-1705, 1721-1722

Property Number: 21200320162

U.S. Military Academy Training Area

Highlands Co: Orange NY 10996

Status: Unutilized

Reason: occupied

Army

New York

Building

Bldg. 1723

Property Number: 21200320163

U.S. Military Academy Training Area

Highlands Co: Orange NY 10996

Status: Unutilized

Reason: occupied

Bldgs. 1706-1709

Property Number: 21200320164

U.S. Military Academy Training Area

Highlands Co: Orange NY 10996

Status: Unutilized

Reason: occupied

Bldgs. 1731-1735

Property Number: 21200320165

U.S. Military Academy

Training Area

Highlands Co: Orange NY 10996

Status: Unutilized

Reason: occupied

North Carolina

Building

Bldg. N4116

Property Number: 21200240087

Fort Bragg

Ft. Bragg Co: Cumberland NC 28310

Status: Excess

Reason: mission use

Army

Texas

Building

Bldgs. 4219, 4227

Property Number: 21200220139

Fort Hood

Ft. Hood Co: Bell TX 76544

Status: Unutilized

Reason: admin use

Bldgs. 4229, 4230, 4231

Property Number: 21200220140

Fort Hood

Ft. Hood Co: Bell TX 76544

Status: Unutilized

Reason: admin use

Bldgs. 4244, 4246

Property Number: 21200220141

Fort Hood

Ft. Hood Co: Bell TX 76544

Status: Unutilized

Reason: admin use

Bldgs. 4260, 4261, 4262

Property Number: 21200220142

Fort Hood

Ft. Hood Co: Bell TX 76544

Status: Unutilized

Reason: admin use

Bldg. 04335

Property Number: 21200440090

Fort Hood

Bell TX 76544

Status: Excess

Reason: occupied

Army

Texas

Building

Bldg. 04465

Property Number: 21200440094

Fort Hood

Bell TX 76544

Status: Excess

Reason: occupied

Bldg. 04468

Property Number: 21200440096

Fort Hood

Bell TX 76544

Status: Excess

Reason: occupied

Bldgs. 04475-04476

Property Number: 21200440098

Fort Hood

Bell TX 76544

Status: Excess

Reason: occupied

Bldg. 04477

Property Number: 21200440099

Fort Hood

Bell TX 76544

Status: Excess

Reason: occupied

Bldg. 07002

Property Number: 21200440100

Fort Hood

Bell TX 76544

Status: Excess

Reason: occupied

Army

Texas

Building

Bldg. 57001

Property Number: 21200440105

Fort Hood

Bell TX 76544

Status: Excess

Reason: occupied

Bldgs. 125, 126

Property Number: 21200620075

Fort Hood

Bell TX 76544

Status: Excess

Reason: occupied

Bldg. 02240

Property Number: 21200620078

Fort Hood

Bell TX 76544

Status: Excess

Reason: occupied

Bldg. 04164

Property Number: 21200620079

Fort Hood

Bell TX 76544

Status: Excess

Reason: occupied

Bldgs. 04218, 04228

Property Number: 21200620080

Fort Hood

Bell TX 76544

Status: Excess

Reason: occupied

Army

Texas

Building

Bldg. 04272

Property Number: 21200620081

Fort Hood

Bell TX 76544

Status: Excess

Reason: not occupied

Bldg. 04415

Property Number: 21200620083

Fort Hood

Bell TX 76544

Status: Excess

Reason: occupied

4 Bldgs.

Property Number: 21200620084

Fort Hood

04419, 04420, 04421, 04424

Bell TX 76544

Status: Excess

Reason: occupied

4 Bldgs.

Property Number: 21200620085

Fort Hood

04425, 04426, 04427, 04429

Bell TX 76544

Status: Excess

Reason: occupied

Bldg. 04430

Property Number: 21200620087

Fort Hood

Bell TX 76544

Status: Excess

Reason: occupied

Army

Texas

Building

Bldg. 04434

Property Number: 21200620088

Fort Hood

Bell TX 76544

Status: Excess

Reason: occupied

Bldgs. 04470, 04471

Property Number: 21200620090

Fort Hood

Bell TX 76544

Status: Excess

Reason: occupied

Bldg. 04493

Property Number: 21200620091

Fort Hood

Bell TX 76544

Status: Excess

Reason: occupied

Bldg. 04494

Property Number: 21200620092

Fort Hood

Bell TX 76544

Status: Excess

Reason: occupied

Bldg. 04632

Property Number: 21200620093

Fort Hood

Bell TX 76544

Status: Excess

Reason: occupied

Army

Texas

Building

Bldg. 04640

Property Number: 21200620094

Fort Hood

Bell TX 76544

Status: Excess

Reason: occupied

Bldg. 04645

Property Number: 21200620095

Fort Hood

Bell TX 76544

Status: Excess

Reason: occupied

Bldg. 04906

Property Number: 21200620096

Fort Hood

Bell TX 76544

Status: Excess

Reason: occupied

Bldg. 20121

Property Number: 21200620097

Fort Hood

Bell TX 76544

Status: Excess

Reason: occupied

Bldg. 91052

Property Number: 21200620101

Fort Hood

Bell TX 76544

Status: Excess

Reason: occupied

Army

Texas

Building

Bldg. 1345

Property Number: 21200740070

Fort Hood

Bell TX 76544

Status: Excess

Reason: utilized

Bldgs. 1348, 1941

Property Number: 21200740071

Fort Hood

Bell TX 76544

Status: Excess

Reason: utilized

Bldg. 1919

Property Number: 21200740072

Fort Hood

Bell TX 76544

Status: Excess

Reason: utilized

Bldg. 1943

Property Number: 21200740073

Fort Hood

Bell TX 76544

Status: Excess

Reason: utilized

Bldg. 1946

Property Number: 21200740074

Fort Hood

Bell TX 76544

Status: Excess

Reason: utilized

Army

Texas

Building

Bldg. 4207

Property Number: 21200740076

Fort Hood

Bell TX 76544

Status: Excess

Reason: utilized

Bldg. 4208

Property Number: 21200740077

Fort Hood

Bell TX 76544

Status: Excess

Reason: utilized

Bldgs. 4210, 4211, 4216

Property Number: 21200740078

Fort Hood

Bell TX 76544

Status: Excess

Reason: utilized

Bldg. 4219A

Property Number: 21200740079

Fort Hood

Bell TX 76544

Status: Excess

Reason: utilized

Bldg. 04252

Property Number: 21200740081

Fort Hood

Bell TX 76544

Status: Excess

Reason: utilized

Army

Texas

Building

Bldg. 4255

Property Number: 21200740082

Fort Hood

Bell TX 76544

Status: Excess

Reason: utilized

Bldg. 04480

Property Number: 21200740083

Fort Hood

Bell TX 76544

Status: Excess

Reason: utilized

Bldg. 04485

Property Number: 21200740084

Fort Hood

Bell TX 76544

Status: Excess

Reason: utilized

Bldg. 04489

Property Number: 21200740086

Fort Hood

Ft. Hood TX 76544

Status: Excess

Reason: utilized

Bldgs. 4491, 4492

Property Number: 21200740087

Fort Hood

Bell TX 76544

Status: Excess

Reason: utilized

Army

Texas

Building

Bldgs. 04902, 04905

Property Number: 21200740088

Fort Hood

Bell TX 76544

Status: Excess

Reason: utilized

Bldgs. 04914, 04915, 04916

Property Number: 21200740089

Fort Hood

Bell TX 76544

Status: Excess

Reason: utilized

Bldg. 20102

Property Number: 21200740091

Fort Hood

Bell TX 76544

Status: Excess

Reason: utilized

Bldg. 20118

Property Number: 21200740092

Fort Hood

Bell TX 76544

Status: Excess

Reason: utilized

Bldg. 29027

Property Number: 21200740093

Fort Hood

Bell TX 76544

Status: Excess

Reason: utilized

Army

Texas

Building

Bldg. 56017

Property Number: 21200740094

Fort Hood

Bell TX 76544

Status: Excess

Reason: utilized

Bldg. 56202

Property Number: 21200740095

Fort Hood

Bell TX 76544

Status: Excess

Reason: utilized

Bldg. 56224

Property Number: 21200740096

Fort Hood

Bell TX 76544

Status: Excess

Reason: utilized

Bldg. 56305

Property Number: 21200740097

Fort Hood

Bell TX 76544

Status: Excess

Reason: utilized

Bldg. 56311

Property Number: 21200740098

Fort Hood

Bell TX 76544

Status: Excess

Reason: utilized

Army

Texas

Building

Bldg. 56329

Property Number: 21200740100

Fort Hood

Bell TX 76544

Status: Excess

Reason: utilized

Bldg. 92043

Property Number: 21200740102

Fort Hood

Bell TX 76544

Status: Excess

Reason: utilized

Bldg. 92072

Property Number: 21200740103

Fort Hood

Bell TX 76544

Status: Excess

Reason: utilized

Bldg. 92083

Property Number: 21200740104

Fort Hood

Bell TX 76544

Status: Excess

Reason: utilized

Bldgs. 04213, 04227

Property Number: 21200740189

Fort Hood

Bell TX 76544

Status: Excess

Reason: utilized

Army

Texas

Building

Bldg. 4404

Property Number: 21200740190

Fort Hood

Bell TX 76544

Status: Excess

Reason: utilized

Bldg. 56607

Property Number: 21200740191

Fort Hood

Bell TX 76544

Status: Excess

Reason: utilized

Bldg. 91041

Property Number: 21200740192

Fort Hood

Bell TX 76544

Status: Excess

Reason: utilized

5 Bldgs.

Property Number: 21200740193

Fort Hood

93010, 93011, 93012, 93014

Bell TX 76544

Status: Excess

Reason: utilized

Bldg. 94031

Property Number: 21200740194

Fort Hood

Bell TX 76544

Status: Excess

Reason: utilized

Army

Virginia

Building

Bldg. T2827

Property Number: 21200320172

Fort Pickett

Blackstone Co: Nottoway VA 23824

Status: Unutilized

Reason: occupied

Bldg. T2841

Property Number: 21200320173

Fort Pickett

Blackstone Co: Nottoway VA 23824

Status: Unutilized

Reason: occupied

Bldg. 01014

Property Number: 21200720067

Fort Story

Ft. Story VA 23459

Status: Unutilized

Reason: occupied

Bldg. 01063

Property Number: 21200720072

Fort Story

Ft. Story VA 23459

Status: Unutilized

Reason: occupied

Bldg. 00215

Property Number: 21200720073

Fort Eustis

Ft. Eustis VA 23604

Status: Unutilized

Reason: occupied

Army

Virginia

Building

4 Bldgs.

Property Number: 21200720074

Fort Eustis

01514, 01523, 01528, 01529

Ft. Eustis VA 23604

Status: Unutilized

Reason: occupied

4 Bldgs.

Property Number: 21200720075

Fort Eustis

01534, 01542, 01549, 01557

Ft. Eustis VA 23604

Status: Unutilized

Reason: occupied

Bldgs. 01707, 01719

Property Number: 21200720077

Fort Eustis

Ft. Eustis VA 23604

Status: Unutilized

Reason: occupied

Bldg. 01720

Property Number: 21200720078

Fort Eustis

Ft. Eustis VA 23604

Status: Unutilized

Reason: occupied

Bldgs. 01721, 01725

Property Number: 21200720079

Fort Eustis

Ft. Eustis VA 23604

Status: Unutilized

Reason: occupied

Army

Virginia

Building

Bldgs. 01726, 01735, 01736

Property Number: 21200720080

Fort Eustis

Ft. Eustis VA 23604

Status: Unutilized

Reason: occupied

Bldgs. 01734, 01745, 01747

Property Number: 21200720081

Fort Eustis

Ft. Eustis VA 23604

Status: Unutilized

Reason: occupied

Bldg. 01741

Property Number: 21200720082

Fort Eustis

Ft. Eustis VA 23604

Status: Unutilized

Reason: occupied

Bldg. 02720

Property Number: 21200720083

Fort Eustis

Ft. Eustis VA 23604

Status: Unutilized

Reason: occupied

Army

Washington

Building

Bldg. 05904

Property Number: 21200240092

Fort Lewis

Ft. Lewis Co: Pierce WA 98433-9500

Status: Excess

Reason: mission use

COE

Illinois

Building

Bldg. 7

Property Number: 31199010001

Ohio River Locks No. 53

Grand Chain Co: Pulaski IL 62941-9801

Status: Unutilized

Reason: Project integrity and security; safety liability

Bldg. 6

Property Number: 31199010002

Ohio River Locks No. 53

Grand Chain Co: Pulaski IL 62941-9801

Status: Unutilized

Reason: Project integrity and security; safety liability

Bldg. 5

Property Number: 31199010003

Ohio River Locks No. 53

Grand Chain Co: Pulaski IL 62941-9801

Status: Unutilized

Reason: Project integrity and security; safety liability

Bldg. 4

Property Number: 31199010004

Ohio River Locks No. 53

Grand Chain Co: Pulaski IL 62941-9801

Status: Unutilized

Reason: Project integrity and security; safety liability

Bldg. 3

Property Number: 31199010005

Ohio River Locks No. 53

Grand Chain Co: Pulaski IL 62941-9801

Status: Unutilized

Reason: Project integrity and security; safety liability

COE

Illinois

Building

Bldg. 2

Property Number: 31199010006

Ohio River Locks No. 53

Grand Chain Co: Pulaski IL 62941-9801

Status: Unutilized

Reason: Project integrity and security; safety liability

Bldg. 1

Property Number: 31199010007

Ohio River Locks No. 53

Grand Chain Co: Pulaski IL 62941-9801

Status: Unutilized

Reason: Project integrity and security; safety liability

Kentucky

Land

Tract 2625

Property Number: 31199010025

Barkley Lake, Kentucky, and Tennessee

Cadiz Co: Trigg KY 42211

Status: Excess

Reason: landholding agency needs property after the floods of 2010

Tract 2709-10 and 2710-2

Property Number: 31199010026

Barkley Lake, Kentucky and Tennessee

Cadiz Co: Trigg KY 42211

Status: Excess

Reason: landholding agency needs property after the floods of 2010

Tract 2708-1 and 2709-1

Property Number: 31199010027

Barkley Lake, Kentucky and Tennessee

Cadiz Co: Trigg KY 42211

Status: Excess

Reason: landholding agency needs property after the floods of 2010

COE

Kentucky

Land

Tract 2800

Property Number: 31199010028

Barkley Lake, Kentucky and Tennessee

Cadiz Co: Trigg KY 42211

Status: Excess

Reason: landholding agency needs property after the floods of 2010

Tract 4318

Property Number: 31199010032

Barkley Lake, Kentucky and Tennessee

Canton Co: Trigg KY 42212

Status: Excess

Reason: landholding agency needs property after the floods of 2010

Tract 4502

Property Number: 31199010033

Barkley Lake, Kentucky and Tennessee

Canton Co: Trigg KY 42212

Status: Excess

Reason: landholding agency needs property after the floods of 2010

Tract 4611

Property Number: 31199010034

Barkley Lake, Kentucky and Tennessee

Canton Co: Trigg KY 42212

Status: Excess

Reason: landholding agency needs property after the floods of 2010

Tract 4619

Property Number: 31199010035

Barkley Lake, Kentucky and Tennessee

Canton Co: Trigg KY 42212

Status: Excess

Reason: landholding agency needs property after the floods of 2010

COE

Kentucky

Land

Tract 4817

Property Number: 31199010036

Barkley Lake, Kentucky and Tennessee

Canton Co: Trigg KY 42212

Status: Excess

Reason: landholding agency needs property after the floods of 2010

Tract 1906

Property Number: 31199010044

Barkley Lake, Kentucky and Tennessee

Eddyville Co: Lyon KY 42030

Status: Excess

Reason: landholding agency needs property after the floods of 2010

Tract 2001 #1

Property Number: 31199010046

Barkley Lake, Kentucky and Tennessee

Eddyville Co: Lyon KY 42030

Status: Excess

Reason: landholding agency needs property after the floods of 2010

Tract 2001 #2

Property Number: 31199010047

Barkley Lake, Kentucky and Tennessee

Eddyville Co: Lyon KY 42030

Status: Excess

Reason: landholding agency needs property after the floods of 2010

Tract 2005

Property Number: 31199010048

Barkley Lake, Kentucky and Tennessee

Eddyville Co: Lyon KY 42030

Status: Excess

Reason: landholding agency needs property after the floods of 2010

COE

Kentucky

Land

Tract 2307

Property Number: 31199010049

Barkley Lake, Kentucky and Tennessee

Eddyville Co: Lyon KY 42030

Status: Excess

Reason: landholding agency needs property after the floods of 2010

Tract 2403

Property Number: 31199010050

Barkley Lake, Kentucky and Tennessee

Eddyville Co: Lyon KY 42030

Status: Excess

Reason: landholding agency needs property after the floods of 2010

Tract 2504

Property Number: 31199010051

Barkley Lake, Kentucky and Tennessee

Eddyville Co: Lyon KY 42030

Status: Excess

Reason: landholding agency needs property after the floods of 2010

Tract 214

Property Number: 31199010052

Barkley Lake, Kentucky and Tennessee

Grand Rivers Co: Lyon KY 42045

Status: Excess

Reason: landholding agency needs property after the floods of 2010

Tract 241

Property Number: 31199010054

Barkley Lake, Kentucky and Tennessee

Grand Rivers Co: Lyon KY 42045

Status: Excess

Reason: landholding agency needs property after the floods of 2010

COE

Kentucky

Land

Tracts 306, 311, 315 and 325

Property Number: 31199010055

Barkley Lake, Kentucky and Tennessee

Grand Rivers Co: Lyon KY 42045

Status: Excess

Reason: landholding agency needs property after the floods of 2010

Tracts 2305, 2306, and 2400-1

Property Number: 31199010056

Barkley Lake, Kentucky and Tennessee

Eddyville Co: Lyon KY 42030

Status: Excess

Reason: landholding agency needs property after the floods of 2010

Tracts 5203 and 5204

Property Number: 31199010058

Barkley Lake, Kentucky and Tennessee

Linton Co: Trigg KY 42212

Status: Excess

Reason: landholding agency needs property after the floods of 2010

Tract 5240

Property Number: 31199010059

Barkley Lake, Kentucky and Tennessee

Linton Co: Trigg KY 42212

Status: Excess

Reason: landholding agency needs property after the floods of 2010

Tract 4619-B

Property Number: 31199011622

Barkley Lake, Kentucky and Tennessee

Canton Co: Trigg KY 42212

Status: Excess

Reason: landholding agency needs property after the floods of 2010

COE

Kentucky

Land

Tract 2403-B

Property Number: 31199011623

Barkley Lake, Kentucky and Tennessee

Eddyville Co: Lyon KY 42038

Status: Unutilized

Reason: landholding agency needs property after the floods of 2010

Tracts 212 and 237

Property Number: 31199011625

Barkley Lake, Kentucky and Tennessee

Grand Rivers Co: Lyon KY 42045

Status: Excess

Reason: landholding agency needs property after the floods of 2010

Tract 233

Property Number: 31199011627

Barkley Lake, Kentucky and Tennessee

Grand Rivers Co: Lyon KY 42045

Status: Excess

Reason: landholding agency needs property after the floods of 2010

Ohio

Building

Bldg.—Berlin Lake Property

Number: 31199640001

7400 Bedell Road

Berlin Center Co: Mahoning OH 44401-9797

Status: Unutilized

Reason: utilized as construction office

COE

Pennsylvania

Building

Tract 403A

Property Number: 31199430021

Grays Landing Lock Project

Greensboro Co: Greene PA 15338

Status: Unutilized

Reason: To be transferred to Borough

Tract 403B

Property Number: 31199430022

Grays Landing Lock Project

Greensboro Co: Greene PA 15338

Status: Unutilized

Reason: To be transferred to Borough

Tract 403C

Property Number: 31199430023

Grays Landing Lock Project

Greensboro Co: Greene PA 15338

Status: Unutilized

Reason: To be transferred to Borough

Land

East Branch Clarion River Lake

Property Number: 31199011012

Wilcox Co: Elk PA

Status: Underutilized

Reason: Location near damsite

Dashields Locks and Dam

Property Number: 31199210009

(Glenwillard, PA)

Crescent Twp. Co: Allegheny PA 15046-0475

Status: Unutilized

Reason: Leased to Township

COE

Tennessee

Land

Tracts K-1191, K-1135

Property Number: 31199130007

Old Hickory Lock and Dam

Hartsville Co: Trousdale TN 37074

Status: Underutilized

Reason: landholding agency needs property after the floods of 2010

Tract 6827

Property Number: 31199010927

Barkley Lake

Dover Co: Stewart TN 37058

Status: Excess

Reason: landholding agency needs property after the floods of 2010

Tracts 6002-2 and 6010

Property Number: 31199010928

Barkley Lake

Dover Co: Stewart TN 37058

Status: Excess

Reason: landholding agency needs property after the floods of 2010

Tract 11516

Property Number: 31199010929

Barkley Lake

Ashland City Co: Dickson TN 37015

Status: Excess

Reason: landholding agency needs property after the floods of 2010

Tract 2319

Property Number: 31199010930

J. Percy Priest Dam and Reservoir

Murfreesboro Co: Rutherford TN 37130

Status: Excess

Reason: landholding agency needs property after the floods of 2010

Tract 2227

Property Number: 31199010931

J. Percy Priest Dam and Reservoir

Murfreesboro Co: Rutherford TN 37130

Status: Excess

Reason: landholding agency needs property after the floods of 2010

COE

Tennessee

Land

Tract 2915

Property Number: 31199010029

Barkley Lake, Kentucky and Tennessee

Cadiz Co: Trigg KY 42211

Location: 6½ miles west of Cadiz

Status: Excess

Reason: landholding agency needs property after the floods of 2010

Tract 2702

Property Number: 31199010031

Barkley Lake, Kentucky and Tennessee

Cadiz Co: Trigg KY 42211

Location: 1 mile in a southerly direction from the village of Rockcastle

Status: Excess

Reason: landholding agency needs property after the floods of 2010

COE

Kentucky

Land

Tract 1217

Property Number: 31199010042

Barkley Lake, Kentucky and Tennessee

Eddyville Co: Lyon KY 42030

Location: On the north side of the Illinois Central Railroad

Status: Excess

Reason: landholding agency needs property after the floods of 2010

Tract 1907

Property Number: 31199010045

Barkley Lake, Kentucky and Tennessee

Eddyville Co: Lyon KY 42038

Location: On the waters of Pilfen Creek, 4 miles east of Eddyville, KY

Status: Excess

Reason: landholding agency needs property after the floods of 2010

Tract 215

Property Number: 31199010053

Barkley Lake, Kentucky and Tennessee

Grand Rivers Co: Lyon KY 42045

Location: 5 miles southwest of Kuttawa

Status: Excess

Reason: landholding agency needs property after the floods of 2010

Tract 4628

Property Number: 31199011621

Barkley Lake, Kentucky and Tennessee

Canton Co: Trigg KY 42212

Location: 4½ miles south from Canton, KY

Status: Excess

Reason: landholding agency needs property after the floods of 2010

COE

Kentucky

Land

Tract 241-B

Property Number: 31199011624

Barkley Lake, Kentucky and Tennessee

Grand Rivers Co: Lyon KY 42045

Location: South of Old Henson Ferry Road, 6 miles west of Kuttawa, KY

Status: Excess

Reason: landholding agency needs property after the floods of 2010

Tract 215-B

Property Number: 31199011626

Barkley Lake, Kentucky and Tennessee

Grand Rivers Co: Lyon KY 42045

Location: 5 miles southwest of Kuttawa

Status: Excess

Reason: landholding agency needs property after the floods of 2010

Tract N-819

Property Number: 31199140009

Dale Hollow Lake Project

Illwill Creek, Hwy 90

Hobart Co: Clinton KY 42601

Status: Underutilized

Reason: landholding agency needs property after the floods of 2010

Tract 2107

Property Number: 31199010932

J. Percy Priest Dam and Reservoir

Murfreesboro Co: Rutherford TN 37130

Status: Excess

Reason: landholding agency needs property after the floods of 2010

Tracts 2601, 2602, 2603, 2604

Property Number: 31199010933

Cordell Hull Lake and Dam Project

Doe Row Creek

Gainesboro Co: Jackson TN 38562

Status: Unutilized

Reason: landholding agency needs property after the floods of 2010

Tract 7206

Property Number: 31199010936

Barkley Lake

Dover Co: Stewart TN 37058

Status: Excess

Reason: landholding agency needs property after the floods of 2010

Tracts 8813, 8814

Property Number: 31199010937

Barkley Lake

Cumberland Co: Stewart TN 37050

Status: Excess

Reason: landholding agency needs property after the floods of 2010

Tract 8911

Property Number: 31199010938

Barkley Lake

Cumberland City Co: Montgomery TN 37050

Status: Excess

Reason: landholding agency needs property after the floods of 2010

COE

Tennessee

Land

Tract 1911

Property Number: 31199010934

J. Percy Priest Dam and Reservoir

Murfreesboro Co: Rutherford TN 37130

Location: East of Lamar Road

Status: Excess

Reason: landholding agency needs property after the floods of 2010

Tract 6949

Property Number: 31199010944

Barkley Lake

Dover Co: Stewart TN 37058

Location: 1½ miles SE of Dover, TN.

Status: Excess

Reason: landholding agency needs property after the floods of 2010

Tract 11503

Property Number: 31199010939

Barkley Lake

Ashland City Co: Cheatham TN 37015

Status: Excess

Reason: landholding agency needs property after the floods of 2010

Tracts 11523, 11524

Property Number: 31199010940

Barkley Lake

Ashland City Co: Cheatham TN 37015

Status: Excess

Reason: landholding agency needs property after the floods of 2010

Tract 6410

Property Number: 31199010941

Barkley Lake

Bumpus Mills Co: Stewart TN 37028

Status: Excess

Reason: landholding agency needs property after the floods of 2010

Tract 9707

Property Number: 31199010943

Barkley Lake

Palmyer Co: Montgomery TN 37142

Status: Excess

Reason: landholding agency needs property after the floods of 2010

Tracts 6005 and 6017

Property Number: 31199011173

Barkley Lake

Dover Co: Stewart TN 37058

Status: Excess

Reason: landholding agency needs property after the floods of 2010

COE

Tennessee

Land

Tract A-102

Property Number: 31199140006

Dale Hollow Lake Project

Canoe Ridge, State Hwy 52

Celina Co: Clay TN 38551

Status: Underutilized

Reason: landholding agency needs property after the floods of 2010

Tract A-120

Property Number: 31199140007

Dale Hollow Lake Project

Swann Ridge, State Hwy No. 53

Celina Co: Clay TN 38551

Status: Underutilized

Reason: landholding agency needs property after the floods of 2010

Tract D-185

Property Number: 31199140010

Dale Hollow Lake Project

Ashburn Creek, Hwy No. 53

Livingston Co: Clay TN 38570

Status: Underutilized

Reason: landholding agency needs property after the floods of 2010

GSA

Arizona

Building

Wilcox Patrol Station

Property Number: 54201110004

200 W. Downew Street

Wilcox Co: Cochise AZ 85643-2742

Status: Surplus

GSA Number: 9-X-AZ-0860

Reason: Expression of interest received

Land

Land

Property Number: 54201010014

95th Ave/Bethany Home Rd

Glendale AZ 85306

Status: Surplus

GSA Number: 9-AZ-852

Reason: Expression of interest received

0.30 acre

Property Number: 54201030010

Bethany Home Road

Glendale AZ 85306

Status: Excess

GSA Number: 9-I-AZ-0859

Reason: Expression of interest received

GSA

California

Building

Defense Fuel Support Pt.

Property Number: 54200810001

Estero Bay Facility

Morro Bay CA 93442

Status: Surplus

GSA Number: 9-N-CA-1606

Reason: Advertised for sale

Former SSA Bldg.

Property Number: 54201020002

1230 12th Street

Modesto CA 95354

Status: Surplus

GSA Number: 9-G-CA-1610

Reason: Advertised for sale

Land

Parcel F-2 Right of Way

Property Number: 54201030012

Seal Beach CA 90740

Status: Surplus

GSA Number: 9-N-CA-1508-AI

Reason: Expression of interest received

Drill Site #3A

Property Number: 54201040004

Ford City CA 93268

Status: Surplus

GSA Number: 9-B-CA-1673-AG

Reason: Expression of interest received

Drill Site #4

Property Number: 54201040005

Ford City CA 93268

Status: Surplus

GSA Number: 9-B-CA-1673-AB

Reason: Expression of interest received

GSA

California

Land

Drill Site #6

Property Number: 54201040006

Ford City CA 93268

Status: Surplus

GSA Number: 9-B-CA-1673-AC

Reason: Expression of interest received

Drill Site #9

Property Number: 54201040007

Ford City CA 93268

Status: Surplus

GSA Number: 9-B-CA-1673-AH

Reason: Expression of interest received

Drill Site #20

Property Number: 54201040008

Ford City CA 93268

Status: Surplus

GSA Number: 9-B-CA-1673-AD

Reason: Expression of interest received

Drill Site #22

Property Number: 54201040009

Ford City CA 93268

Status: Surplus

GSA Number: 9-B-CA-1673-AF

Reason: Expression of interest received

Drill Site #24

Property Number: 54201040010

Ford City CA 93268

Status: Surplus

GSA Number: 9-B-CA-1673-AE

Reason: Expression of interest received

Drill Site #26

Property Number: 54201040011

Ford City CA 93268

Status: Surplus

GSA Number: 9-B-CA-1673-AA

Reason: Expression of interest received

Colorado

Land

Common Pt. Shooting Rng.

Property Number: 54201120003

Bureau of Reclamation

Drake Co: Larimer CO 80515

Status: Excess

GSA Number: 7-1-CO-0678

Reason: expression of interest

Georgia

Building

Fed. Bldg. Post Office/Court

Property Number: 54201110006

404 N. Broad St.

Thomasville GA 31792

Status: Surplus

GSA Number: 4-G-GA-878AA

Reason: Conveyance Pending

GSA

Idaho

Building

Moscow Federal Bldg.

Property Number: 54201140003

220 East 5th Street

Moscow ID 83843

Status: Surplus

GSA Number: 9-G-ID-573

Reason: property will be occupied for 2 yrs.

Illinois

Building

1LT A.J. Ellison

Property Number: 54201110012

Army Reserve

Wood River IL 62095

Status: Excess

GSA Number: 1-D-II-738

Reason: Expression of Interest Received.

Iowa

Building

U.S. Army Reserve

Property Number: 54200920017

620 West 5th St.

Garner IA 50438

Status: Excess

GSA Number: 7-D-IA-0510

Reason: Advertised for sale

GSA

Louisiana

Land

Almonaster

Property Number: 54201110014

4300 Almonaster Ave.

New Orleans LA 70126

Status: Surplus

GSA Number: 7-D-LA-0576

Reason: Expression of Interest

Maryland

Building

Appraisers Store

Property Number: 54201030016

Baltimore MD 21202

Status: Excess

GSA Number: 4-G-MD-0623

Reason: Expression of interest received

Massachusetts

Land

FAA Site

Property Number: 54200830026

Massasoit Bridge Rd.

Nantucket MA 02554

Status: Surplus

GSA Number: MA-0895

Reason: Expressions of interest received

GSA

Michigan

Building

CPT George S. Crabbe USARC

Property Number: 54201030018

2901 Webber Street

Saginaw MI

Status: Excess

GSA Number: 1-D-MI-835

Reason: Advertised for sale

Minnesota

Building

FAA Outer Marker

Property Number: 54201120010

9935 Newton Ave.

Minneapolis MN 55431

Status: Excess

GSA Number: 1-I-MN-594

Reason: Advertised for sale

Bldg. 921

Property Number: 54201120017

W. Main St.

Paynesville MN

Status: Excess

GSA Number: 1-D-MN-0591

Reason: Expression of Interest

Missouri

Building

Federal Bldg/Courthouse

Property Number: 54200840013

339 Broadway St.

Cape Girardeau MO 63701

Status: Excess

GSA Number: 7-G-MO-0673

Reason: Advertised for sale

Kirksville Property

Property Number: 54201120016

FAA

Kirksville MO

Status: Surplus

GSA Number: 7-U-MO-0690

Reason: Advertised for sale

Montana

Building

Swan Lake Guard Station

Property Number: 54201130004

MP69 HWY 83 South

Swan Lake MT 55911

Status: Surplus

GSA Number: 7-A-MT-0514-2

Reason: Sale pending

Rising Sun Boat

Property Number: 54201130005

St. Mary Lake Glacier Nat'l Park

St. Mary Lake MT 59911

Status: Surplus

GSA Number: 7-I-MT-0544-3

Reason: Sale pending

GSA

Montana

Building

Kalispell Shop

Property Number: 54201130006

1899 Airport Rd.

Kalispell MT 59901

Status: Surplus

GSA Number: 7-A-MT-0632

Reason: Sale pending

Boulder Admin. Site

Property Number: 54201130016

12 Depot Hill Rd.

Boulder MT 59632

Status: Excess

GSA Number: 7-A-MT-532-AA

Reason: Expression of interest

New Hampshire

Building

Federal Building

Property Number: 54200920006

719 Main St.

Parcel ID: 424-124-78

Laconia NH 03246

Status: Excess

GSA Number: 1-G-NH-0503

Reason: Conveyance pending

GSA

New Jersey

Building

Camp Petricktown Sup. Facility

Property Number: 54200740005

US Route 130

Pedricktown NJ 08067

Status: Excess

GSA Number: 1-D-NJ-0662

Reason: Conveyance pending

Ohio

Building

Oxford USAR Facility

Property Number: 54201010007

6557 Todd Road

Oxford OH 45056

Status: Excess

GSA Number: 1-D-OH-833

Reason: Expression of interest received

Belmont Cty Memorial USAR Ctr

Property Number: 54201020008

5305 Guernsey St.

Bellaire OH 43906

Status: Excess

GSA Number: 1-D-OH-837

Reason: Expression of interest received

Army Reserve Center

Property Number: 54201020009

5301 Hauserman Rd.

Parma Co: Cuyahoga OH 44130

Status: Excess

GSA Number: I-D-OH-842

Reason: Advertised for sale

GSA

Ohio

Building

LTC Dwite Schaffner

Property Number: 54201120006

U.S. Army Reserve Center

1011 Gorge Blvd.

Akron Co: Summit OH 44310

Status: Excess

GSA Number: 1-D-OH-836

Reason: Expression of Interest

Oregon

Building

3 Bldgs/Land

Property Number: 54200840003

OTHR-B Radar

Cty Rd 514

Christmas Valley OR 97641

Status: Excess

GSA Number: 9-D-OR-0768

Reason: Expression of Interest

US Customs House

Property Number: 54200840004

220 NW. 8th Ave.

Portland OR

Status: Excess

GSA Number: 9-D-OR-0733

Reason: Conveyance pending

GSA

Pennsylvania

Land

Approx. 16.88

Property Number: 54200820011

271 Sterrettania Rd.

Erie PA 16506

Status: Surplus

GSA Number: 4-D-PA-0810

Reason: Sale in progress

South Carolina

Building

Naval Health Clinic

Property Number: 54201040013

3600 Rivers Ave.

Charleston SC 29405

Status: Excess

GSA Number: 4-N-SC-0606

Reason: Expression of interest received

Tennessee

Building

NOAA Admin. Bldg.

Property Number: 54200920015

456 S. Illinois Ave.

Oak Ridge TN 38730

Status: Excess

GSA Number: 4-B-TN-0664-AA

Reason: Expression of interest received

GSA

Texas

Building

FAA RML Facility

Property Number: 54201110016

11262 N. Houston Rosslyn Rd.

Houston TX 77086

Status: Surplus

GSA Number: 7-U-TX-1129

Reason: Expression of Interest

Rattle Snake Scoring Ste.

Property Number: 54201120005

1085 County Rd. 332

Pecos Co: Reeves TX 79772

Status: Excess

GSA Number: 7-D-TX-0604-AM

Reason: Advertised for sale

Land

FAA Outermarker—Houston

Property Number: 54201040001

Spring TX 77373

Status: Surplus

GSA Number: 7-U-TX-1110

Reason: Advertised for sale

FAA

Property Number: 54201120015

Directional Finder

Lampasas TX

Status: Excess

GSA Number: 7-U-TX-1131

Reason: Expression of Interest

Parcel 2

Property Number: 54201130001

Camp Bowie

Brownwood TX 76801

Status: Surplus

GSA Number: 7-D-TX-0589

Reason: Expression of Interest

GSA

Virginia

Building

Hampton Rds, Shore Patrol Bldg

Property Number: 54201120009

811 East City Hall Ave

Norfolk VA 23510

Status: Excess

GSA Number: 4-N-VA-758

Reason: Expression of Interest

Washington

Building

Fox Island Naval Lab Property Number: 54201020012

630 3rd Ave.

Fox Island Co: Pierce WA 98333

Status: Surplus

GSA Number: 9-D-WA-1245

Reason: Conveyance pending

Interior

Virginia

Building

Tract 05-151, Qtrs. 11

Property Number: 61201040001

National Park Service

Spotsylvania VA 22553

Status: Excess

Reason: Transferred to GSA for sale

Washington

2 Bldgs.

Property Number: 61201130003

Bureau of Reclamation

Sunnyside WA

Location:

Storehouse and Lumber Shed

Status: Excess

Reason: Pending disposal

Navy

Hawaii

Land

Property Record 1-11032

Property Number: 77201040011

Naval Station

Pearl Harbor HI 96818

Status: Unutilized

Reason: leased

VA

Iowa

Land

38 acres

Property Number: 97199740001

VA Medical Center

1515 West Pleasant St.

Knoxville Co: Marion IA 50138

Status: Unutilized

Reason: Enhanced-Use Legislation potential

Michigan

Land

VA Medical Center

Property Number: 97199010015

5500 Armstrong Road

Battle Creek Co: Calhoun MI 49016

Status: Underutilized

Reason: Being used for patient and program activities.

Montana

Building

VA MT Healthcare

Property Number: 97200030001

210 S. Winchester

Miles City Co: Custer MT 59301

Status: Underutilized

Reason: transfer to Custer County

VA

New York

Building

Bldg. 3

Property Number: 97200520001

VA Medical Center

Batavia Co: Genesee NY 14020

Status: Underutilized

Reason: The VA Medical Ctr. is currently fully utilizing the space.

Ohio

Building

Bldg. 116

Property Number: 97199920002

VA Medical Center

Dayton Co: Montgomery OH 45428

Status: Unutilized

Reason: preexisting agreement

Pennsylvania

Land

VA Medical Center

Property Number: 97199010016

New Castle Road

Butler Co: Butler PA 16001

Status: Underutilized

Reason: Used as natural drainage for facility property.

Land No. 645

Property Number: 97199010080

VA Medical Center

Highland Drive

Pittsburgh Co: Allegheny PA 15206

Status: Unutilized

Reason: Property is essential to security and safety of patients.

VA

Pennsylvania

Land

Land—34.16 acres

Property Number: 97199340001

VA Medical Center

1400 Black Horse Hill Road

Coatesville Co: Chester PA 19320

Status: Underutilized

Reason: needed for mission related functions

Texas

Land

Land

Property Number: 97199010079

Olin E. Teague Veterans Center

1901 South 1st Street

Temple Co: Bell TX 76504

Status: Underutilized

Reason: Closed land fill site w/cap/risk of ground water

[FR Doc. 2012-2721 Filed 2-9-12; 8:45 am]

BILLING CODE 4210-67-P